OFFICE OF PERSONNEL MANAGEMENT

2005 Nonforeign Area Cost-of-Living Allowance Survey Report: Caribbean and Washington, DC, Areas

AGENCY: Office of Personnel Management.

ACTION: Notice.

SUMMARY: This notice publishes the “2005 Nonforeign Area Cost-of-Living Allowance Survey Report: Caribbean and Washington, DC, Areas.” The Federal Government uses the results of surveys such as these to set cost-of-living allowance (COLA) rates for General Schedule, U.S. Postal Service, and certain other Federal employees in Alaska, Hawaii, Guam and the Northern Mariana Islands, Puerto Rico, and the U.S. Virgin Islands. This report contains the results of the COLA surveys conducted by the Office of Personnel Management in Puerto Rico, the U.S. Virgin Islands, and the Washington, DC area during the spring of 2005.

DATES: Comments on this report must be received on or before December 26, 2006.

ADDRESSES: Send or deliver comments to Jerome D. Mikowicz, Acting Deputy Associate Director for Pay and Performance Policy, Strategic Human Resources Policy Division, Office of Personnel Management, Room 7H31, 1900 E Street, NW., Washington, DC 20415-8200; fax: (202) 606-4264; or e-mail: COLA@opm.gov.

FOR FURTHER INFORMATION CONTACT: Donald L. Paquin, (202) 606-2838; fax: (202) 606-4264; or e-mail: COLA@opm.gov.

SUPPLEMENTARY INFORMATION: Section 591.229 of title 5, Code of Federal Regulations, requires the Office of Personnel Management (OPM) to publish nonforeign area cost-of-living allowance (COLA) survey summary reports in the Federal Register. We are publishing the complete “2005 Nonforeign Area Cost-of-Living Allowance Survey Report: Caribbean and Washington, DC, Areas” with this notice. The report contains the results of the COLA surveys we conducted in Puerto Rico, the U.S. Virgin Islands, and the Washington, DC area during the spring of 2005.

Survey Results

Using an index scale with Washington, DC area living costs equal to 100, we computed index values of relative prices in the Puerto Rico and U.S. Virgin Islands COLA areas. Then we added an adjustment factor of 7.0 to the Puerto Rico price index and 9.0 to the U.S. Virgin Islands price index and rounded the results to the nearest whole percentage point. According to the results, the COLA rate for the U.S. Virgin Islands should increase from 23 percent, which is the current rate, to 25 percent; and the COLA rate for Puerto Rico should decrease from 10.5 percent, which is the current rate, to 9.5 percent. Section 591.228(c) limits decreases to 1 percentage point in a 12-month period. In a proposed rule published with this notice, OPM proposes to adjust COLA rate rates based on the results of the 2005 Caribbean surveys.

Office of Personnel Management.
Linda M. Springer,
Director.

2005 Nonforeign Area Cost-of-Living Allowance Survey Report: Caribbean and Washington, DC Areas

Table of Contents

Executive Summary

1. Introduction

1.1 Report Objectives

2. Preparing for the Survey

2.1 COLA Advisory Committees

2.2 Pre-Survey Meetings

2.3 Survey Item Selection

2.3.1 Special Considerations

2.4 Outlet Selection

2.5 Geographic Coverage

3. Conducting the Survey

3.1 Pricing Period

3.2 Non-Housing Price Data Collection

3.2.1 Data Collection Teams

3.2.2 Data Collection Process

3.3 Housing (Rental) Price Data Collection

4. Analyzing the Results

4.1 Data Review

4.2 Special Price Computations

4.2.1 K-12 Private Education

4.2.2 Health Insurance

4.2.3 Water Utilities

4.2.4 Energy Utilities Model

4.2.5 Rental Data Hedonic Models

4.3 Averaging Prices by Item and Area

4.4 Computing Price Indexes

4.4.1 Geometric Means

4.4.2 Special Private Education Computations

4.5 Applying Consumer Expenditure Weights

5. Final Results

6. Post Survey Meetings

List of Appendices

Appendix 1: Publication in the Federal Register of Prior Survey Results: 1990-2005

Appendix 2: Estimated DC Area Middle Income Annual Consumer Expenditures

Appendix 3: COLA Survey Items and Descriptions

Appendix 4: COLA Rental Survey Data Collection Elements

Appendix 5: Utility Usage and Calculations

Appendix 6: Hedonic Rental Data Equations and Results

Appendix 7: Final Living-Cost Results for COLA Areas

Executive Summary

The Government pays cost-of-living allowances (COLAs) to Federal employees in nonforeign areas in consideration of living costs significantly higher than those in the Washington, DC area. The Office of Personnel Management (OPM) conducts living-cost surveys to set the COLA rates. The methodology for conducting these surveys is prescribed in regulation at subpart B of part 591 of title 5 of the Code of Federal Regulations.

This report provides the results of the COLA surveys OPM conducted in the spring of 2005 in Puerto Rico, the U.S. Virgin Islands, and the Washington, DC area. The report details our comparison of living costs in the Caribbean areas with living costs in the Washington, DC area.

For the surveys, we contacted about 850 outlets and collected approximately 4,000 non-rental prices on more than 250 items representing typical consumer purchases. We also collected about 1,800 rental prices. We then combined the data using consumer expenditure information from the Bureau of Labor Statistics. The final results are living-cost indexes, shown in Table 1. These indexes compare living costs in Puerto Rico and the U.S. Virgin Islands to those in the Washington, DC area. The index for the DC area (not shown) is 100.00 because it is, by law, the reference area. The living-cost indexes shown in Table 1 include the adjustment factor prescribed at 5 CFR 591.227.

Table 1.—Final Living-Cost Comparison Indexes
Allowance area | Index
Puerto Rico | 103.32
U.S. Virgin Islands | 128.21

1. Introduction

1.1 Report Objectives

This report provides the results of the 2005 “Caribbean” nonforeign area cost-of-living allowance (COLA) survey conducted by the Office of Personnel Management (OPM) in the spring of 2005. (Appendix 1 lists prior survey reports and their publication dates.) In addition to providing the results, the report describes how we prepared for and conducted the survey and analyzed the results. The results show comparative living-cost differences between the Caribbean COLA areas, i.e., Puerto Rico and the U.S. Virgin Islands (USVI), and the Washington, DC area. By law, Washington, DC, is the base or “reference” area for the COLA program.

2. Preparing for the Survey

2.1 COLA Advisory Committees

Before conducting the Caribbean survey, OPM established COLA Advisory Committees (CACs) in Puerto Rico, St. Croix (USVI), and St. Thomas/St. John (USVI). The settlement of Caraballo, et al. v. United States, No. 1997-0027 (D.V.I.), August 17, 2000, provides for employee involvement in the administration of the COLA program. As in previous surveys, we found it valuable to involve employee and agency representatives in planning and conducting the surveys and reviewing the results.

Each CAC is composed of approximately 12 agency and employee representatives from the survey area and 2 OPM representatives. The functions of the CACs include the following:

—Advising and assisting OPM in planning COLA surveys;

—Providing or arranging for data collection observers during COLA surveys;

—Advising and assisting OPM in reviewing survey data;

—Advising OPM on its COLA program administration, including survey methodology;

—Assisting OPM in disseminating information to affected employees about the surveys and the COLA program; and

—Advising OPM on special situations or conditions, such as hurricanes and earthquakes, as they relate to OPM's authority to conduct interim surveys or implement some other change in response to conditions caused by a natural disaster or similar emergency.

2.2 Pre-Survey Meetings

To help us prepare for the COLA surveys, the CACs held 3-day meetings in Puerto Rico, St. Thomas, and St. Croix. The CACs reviewed the preliminary outlet and item lists developed by OPM for the surveys. The committee members researched the outlets and availability and appropriateness of the items in each area and made recommendations to us concerning the survey. We incorporated these recommendations into the survey design.

We found the work of the CACs to be extremely helpful and informative. The CACs' knowledge of the local area, the popularity of items and outlets, and other information about the COLA area, were invaluable in helping us plan the survey.

2.3 Survey Item Selection

As described in Sections 2.1 and 2.2, we consulted with the CACs as we selected survey items. We identified items to reflect a wide array of items consumers typically purchase. To determine what consumers purchase, OPM uses the Bureau of Labor Statistics (BLS) 2002/2003 Consumer Expenditure Survey (CES). We aggregated CES expenditures into the following nine major expenditure groups (MEGs):

—Food,

—Shelter and Utilities,

—Household Furnishings and Supplies,

—Apparel,

—Transportation,

—Medical,

—Recreation,

—Education and Communication, and

—Miscellaneous.

We further subdivided each MEG into primary expenditure groups (PEGs). In all, there were 45 PEGs. For example, we subdivided Food into the following nine PEGs:

—Cereals and Bakery Products;

—Meats, Poultry, Fish, and Eggs;

—Dairy Products;

—Fresh Fruits and Vegetables;

—Processed Foods;

—Other Food at Home;

—Nonalcoholic Beverages;

—Food Away from Home; and

—Alcoholic Beverages.

To select survey items, we chose a sufficient number of items to represent each PEG and reduce overall price index variability. To do this, we applied the following guidelines: Each survey item should be:

—Relatively important (i.e., represent a fairly large expenditure) within the PEG;

—Relatively easy to find in both COLA and DC areas;

—Relatively common, i.e., what people typically buy;

—Relatively stable over time, e.g., not a fad item; and

—Subject to similar supply and demand functions.

In all, we selected over 250 non-housing items to survey. Appendix 2 shows how OPM organized the CES data into MEGs and PEGs, identifies the Detailed Expenditure Categories (DECs) for which we chose survey items, and shows estimated DC area middle income annual consumer expenditures for each DEC and higher level of aggregations.

Appendix 3 lists the items we surveyed and their descriptions. Each of these items is specifically described with an exact brand, model, type, and size whenever practical. Thus, we priced exactly the same items or the same quality and quantity of items in both the COLA and DC areas. For example, we priced a 10.5-ounce can of Campbell's Chicken Noodle Soup in both the COLA and DC areas because it is typical of canned soups, and consumers commonly purchase it.

2.3.1 Special Considerations

Automobile Insurance: We were not able to compare exactly the same level of automobile insurance coverage in all areas. State and local jurisdictions regulate car insurance, and the coverage offered varies among the Caribbean COLA areas and the Washington, DC area. Therefore, we surveyed different levels of automobile insurance coverage in Puerto Rico as compared with the USVI. However, we surveyed both levels of coverage, to the extent possible, in the Washington, DC area. When we made the price comparisons, we based the comparisons on comparable levels of coverage in the COLA survey area and in the DC area. Table 2 shows the coverage we surveyed.

Table 2.—Automobile Insurance Coverage
Coverage | Puerto Rico and DC area limits and deductibles | USVI and DC area limits and deductibles
Bodily Injury | $100,000/$300,000 | $25,000/$50,000.
Property Damage | $25,000 | $25,000.
Medical | $10,000 | $5,000.
Uninsured Motorist * | $100,000/$300,000 | $25,000/$50,000.
Comprehensive | $100 Deductible | $250 Deductible.
Collision | $250 Deductible | $500 Deductible.
* Not available in Puerto Rico or the Virgin Islands. Therefore, we excluded the cost of Uninsured Motorist coverage from Washington, DC area policies before comparing prices and computing the price index.

Health Insurance: It is not practical to compare the prices of exactly the same quality and quantity of health insurance between the COLA and Washington, DC areas because the same array of plans is not offered in each area, and a significant proportion of Federal employees in both the COLA and DC areas subscribe to plans not available nationwide. To compare the employee health benefits premiums of these often highly different plans, OPM would have to adjust for differences in benefits and coverage. Research conducted by the parties prior to the Caraballo settlement indicated this would not be feasible.

Therefore, OPM uses the non-Postal Service employee's share of the Federal Employees Health Benefits premiums by plan for each plan offered in each area. OPM maintains these data in its Central Personnel Data File (CPDF), including the number of white-collar Federal employees enrolled in each plan. As described in Section 4.2.3, we used these data to compute the average “price” of health insurance for Federal employees in the COLA and DC areas.

Housing: For housing items, OPM surveys rental rates for specific kinds or classes of housing and collects detailed information about each housing unit. OPM surveys the following classes of housing:

—Four bedroom, single family unit, not to exceed 3200 square feet;

—Three bedroom, single family unit, not to exceed 2600 square feet;

—Two bedroom, single family unit, not to exceed 2200 square feet;

—Three bedroom apartment unit, not to exceed 2000 square feet;

—Two bedroom apartment unit, not to exceed 1800 square feet; and

—One bedroom apartment unit, not to exceed 1400 square feet.

For each housing unit we surveyed, we obtained approximately 80 characteristics about the unit. For example, we determined the number of bedrooms, bathrooms, square footage, whether there was a garage, air conditioning, security systems, and recreational activities. Appendix 4 lists the types of detailed information we collected. We did not collect homeowner data, such as mortgage payments, maintenance expenses, or insurance. Under the Caraballo settlement, the parties agreed to adopt a rental equivalence approach similar to the one BLS uses for the Consumer Price Index. Rental equivalence compares the shelter value (rental value) of owned homes, rather than total owner costs, because the latter are influenced by the investment value of the home (i.e., influenced by what homeowners hope to realize as a profit when they sell their homes). As a rule, living-cost surveys do not compare how consumers invest their money.

In the 2005 survey, OPM surveyed rents and used them to estimate homeowner rental values (i.e., rental equivalence). In late 2004 and 2005, OPM conducted special research, the General Population Rental Equivalence Survey (GPRES), to obtain additional rent and rental equivalence information. The goal was to determine whether OPM should adjust the rent index before using it to estimate homeowner rental values. The analyses showed that no adjustments should be made. Therefore, OPM's use of the rents to estimate rental equivalence is appropriate. OPM published the GPRES results in a Federal Register notice on July 31, 2006, at 71 FR 43228.

Although we surveyed rental rates for the same classes of housing in each area, the type, style, size, quality, and other 80-plus characteristics of each unit varied within each area and between the COLA and DC areas. As described in Section 4.2.6, we used special statistical analyses to hold these characteristics constant between the COLA and Washington, DC areas to make rental price comparisons.

2.4 Outlet Selection

Just as it is important to select commonly purchased items and survey the same items in both the DC area and COLA areas, it is important to select outlets frequented by consumers and find comparable outlets in both the COLA and DC areas. To identify comparable outlets, OPM categorizes outlets by type (e.g., grocery store, convenience store, discount store, hardware store, auto dealer, and catalog outlet) and then surveys only specific items at each outlet type. For example, OPM surveys grocery items at supermarkets in all areas because most people purchase their groceries at such stores and because supermarkets exist in nearly all areas. Selecting comparable outlets is particularly important because significant price variations may occur between dissimilar outlets (e.g., comparing the price of milk at a supermarket with the price of milk at a convenience store).

We used the above classification criteria and existing data sources, including previous COLA surveys, phone books, and various business listings, to develop initial outlet lists for the survey. We provided these lists to the CACs and consulted with them on outlet selection. The committees helped us refine the outlet lists and identify other/additional outlets where local consumers generally purchase the survey items.

We also priced some items by catalog, and when we did, we priced the same items by catalog in the COLA areas and in the DC area. We priced 11 items by catalog in the Caribbean and DC areas. All catalog prices included any charges for shipping and handling and all applicable taxes, including excise taxes.

In all, we surveyed prices from approximately 850 outlets. In the COLA survey areas, we attempted to survey three popular outlets of each type, to the extent practical. For some outlet types, such as local phone service, there were not three outlets. In some areas, there were not a sufficient number of businesses to find three outlets of each particular type. In the Washington, DC area, we attempted to survey nine popular outlets of each type, three in each of the DC survey areas described in Table 3.

There was one major exception to this in the 2005 survey. In the pre-survey meetings, the Puerto Rico CAC recommended against surveying Amigo, one of the Puerto Rico grocery store chains. The CAC believed Amigo was not equivalent to the other two major chains—Grande and Pueblo. Therefore, we dropped Amigo from the Puerto Rico survey and dropped Shoppers Food Warehouse, which we believed was equivalent to Amigo, from the DC area survey. On the other hand, at the USVI CACs' advice, we surveyed several additional grocery stores in the USVI in anticipation that data collection and item matching would be more difficult there. We surveyed four grocery stores on St. Croix and five on St. Thomas and St. John. Because OPM compares average prices, it does not make any difference how many stores we survey provided we find the same types of stores in the COLA and DC areas.

2.5 Geographic Coverage

Table 3 shows the Caribbean COLA and DC survey area boundaries.

Table 3.—Survey and Data Collection Areas
COLA areas and reference areas | Survey area
Puerto Rico | San Juan/Caguas area and eastern Puerto Rico.*
U.S. Virgin Islands | St. Croix, St. Thomas/St. John area.*
Washington, DC-DC | District of Columbia.
Washington, DC-MD | Montgomery County and Prince Georges County.
Washington, DC-VA | Arlington County, Fairfax County, Prince William County, City of Alexandria, City of Fairfax, City of Falls Church, City of Manassas, and City of Manassas Park.
Note: For selected items, such as golf and air travel, these survey areas include additional geographic locations beyond these jurisdictions.
* OPM collects housing data in eastern Puerto Rico and on St. John. OPM also collected non-housing data from selected outlets on St. John.

OPM collected non-housing prices in outlets throughout the Caribbean areas described in Table 3. To collect rental data, OPM contracted with Delta-21 Resources, Incorporated, a research organization with expertise in housing and rental data collection. Delta-21 surveyed rental rates in locations within these areas.

To collect non-rental data in the DC area, OPM divides the area into three survey areas, as shown in Table 3. OPM collects non-rental prices in outlets throughout these areas. As stated in the footnote to Table 3, we surveyed certain items, such as golf, in areas beyond the counties and cities specified in Table 3. Another example is air travel. We surveyed the cost of air travel from Ronald Reagan Washington National Airport, Washington Dulles International Airport, and Baltimore/Washington International Airport (BWI) and surveyed the price of a 5-mile taxi ride originating at these airports. Both Dulles and BWI are outside the counties and cities shown in Table 3. Nevertheless, DC area residents commonly use both airports.

Delta-21 surveyed rental prices as specified in the COLA areas and throughout the DC area. (Note: OPM does not divide the DC area into three separate survey areas for rental data collection but rather treats the area as a single survey area.) In selecting the locations and sample sizes within each location, OPM used 2000 census data showing the relative number of Federal employees and housing units by zip code. In doing this, we often merged several zip codes to identify a single location. We allocated the rental sample objectively, requiring Delta to attempt to obtain more rental observations in locations with a relatively large number of Federal employees and housing units and fewer observations in locations with a relatively small number of Federal employees and housing units. Although the process provided a rational way to allocate the sample, Delta was limited ultimately by how many units were available for rent within a location. Under the contract, Delta surveyed only units available for rent. It did not survey all renter-occupied housing.

3. Conducting the Survey

3.1 Pricing Period

OPM collected data from early March through May 2005. We collected non-housing price data concurrently in the Caribbean areas in March and collected the bulk of the DC area data in April and May. Delta-21 collected rental data sequentially in St. Croix, St. Thomas/St. John, Puerto Rico, and in the Washington, DC area beginning on March 1, 2005, and ending on May 31, 2005.

3.2 Non-Housing Price Data Collection

3.2.1 Data Collection Teams

In both the COLA and Washington, DC areas, OPM central office staff collected non-housing price data. In the COLA areas, data collection observers designated by the local CAC accompanied the OPM data collectors. Data collection observers were extremely helpful and advised and assisted the data collectors in contacting outlets, matching items, and selecting substitutes. The observers also advised us on other living-cost and compensation issues relating to their areas.

Because of logistical considerations, cost, and the fact OPM central office staff is very knowledgeable about the DC area, we did not use CAC data collection observers in the Washington, DC area. However, we made all of the DC area data available to the CACs. This included both the rental and non-rental data. The non-rental data showed the individual prices by item, store, and survey location as well as averages. The rental data included a photograph and a rough sketch of the layout of the rental unit. We also provided the CACs with maps showing where each rental unit is located.

3.2.2 Data Collection Process

The data collector/observer teams obtained most of the data by visiting stores, auto dealers, and other outlets. The teams also priced some items, such as car insurance, tax preparation fees, bank interest, and private education tuition, by telephone. As noted in Section 2.4, we surveyed some items via catalog, including all shipping costs and any applicable taxes in the price. We also collected other data, such as sales tax rates and airline fares, from Web sites on the Internet.

For all items subject to sales and/or excise taxes, we added the appropriate amount of tax to the price before computing COLA rates. In the DC area, sales tax rates varied by jurisdiction, and some sales tax rates even varied by item within a location, such as restaurant meals in the Washington, DC area. Puerto Rico and the U.S. Virgin Islands currently have no general sales or business tax passed on to the consumer separately at the time of sale.

The data collectors collected the price of the item at the time of the visit to the outlet. Therefore, with certain exceptions, the data collectors collected the sale price if the item was on sale, and we used sale prices in the COLA calculations. The exceptions include coupon prices, going-out-of-business prices, clearance prices, and area-wide distress sales, which we do not use because they are atypical and/or seasonal. We also do not collect automobile “sale” or negotiated prices. Instead, we obtain the sticker (i.e., non-negotiated) price for the model and specified options. The prices are the manufacturer's suggested retail price (including options), destination charges, additional shipping charges, appropriate dealer-added items or options, dealer mark-up, and taxes, including sales tax and licensing and title fees.

3.3 Housing (Rental) Price Data Collection

As noted in Section 2.5, OPM contracted for the collection of rental data with Delta-21, which collected data in the Caribbean areas and in the DC area. These data included rental prices, comprehensive information about the size and type of dwelling, number and types of rooms, and other important amenities that might influence the rental price. Appendix 4 lists the data elements Delta-21 collected.

The contractor identified units for rent from various sources, including rental property managers, realtor brokers, listing services, newspaper ads, grocery store bulletin boards, and casual drive-by observation. The contractor then visited each rental unit, took a photograph of the unit, made a sketch of the floor plan based on exterior dimensions and shape, and noted the unit's longitude and latitude coordinates. We used longitude and latitude to (1) determine the distance of the rental unit from major commercial and Government centers, (2) to correlate census tract data (e.g., median income) for the tract in which the unit was located, and (3) to map each unit's location. As discussed in Section 4.2.5, we used certain census tract data elements along with the data Delta-21 collected to determine the relative price of rents.

4. Analyzing the Results

4.1 Data Review

During and after the data collection process, the data collectors reviewed the data for errors and omissions. This involved reviewing the data item-by-item and comparing prices across outlets within an area to spot data entry errors, mismatches, and other mistakes.

After all of the data had been collected in both the COLA areas and the Washington, DC area, we again reviewed the data by item across all of the areas. One purpose was to spot errors not previously detected, but the principal reason was to look at substitute items.

A substitute is an item similar to but not exactly the same as the specified survey item. For example, one of the items OPM specified was the 2.4GHz AT&T model 1465ESP cordless telephone. The data collectors in the Caribbean areas, however, discovered some stores did not carry this model. Therefore, the data collectors priced the 2.4GHz AT&T model 1477 instead. We then priced the same model in the DC area and used the substitute price information in place of the prices of the originally specified item.

4.2 Special Price Computations

After completing our data review, we made special price computations for five survey items: K-12 private education, Federal Employees Health Benefits premiums, water utilities, energy utility prices, and rental prices. For each of these, we used special processes to calculate appropriate estimates for each survey area.

4.2.1 K-12 Private Education

One of the items OPM surveys is the average annual tuition for private education, grades K-12. As in previous surveys, we found tuition rates varied by grade level. Therefore, we computed an overall average tuition “price” for each school surveyed by averaging the tuition rates grade-by-grade. Section 4.4.2 below describes the additional special “use factor” OPM applied to the average tuition rates in the price comparison process.

4.2.2 Health Insurance

As noted in Section 2.3.1, OPM surveyed the non-Postal employees' premium for the various Federal Employees Health Benefits (FEHB) plans offered in each survey area. Using enrollment information from the CPDF, we computed two weighted average premium costs—one for self-only coverage and another for family coverage—for white-collar Federal employees in each of the COLA areas and in the Washington, DC area. As shown in Table 4, we then computed an overall weighted average premium for each survey area by applying the number of white-collar Federal employees nationwide enrolled in self-only and family plans. We used the overall weighted average premiums as “prices” in the price averaging process described in Section 4.3 below.

Table 4.—2005 Average FEHB Premiums for Full-Time Permanent Employees
[Non-Postal employees' share]
Location | Self premium | Family premium | Bi-weekly weighted average premium
Puerto Rico | 29.54 | 63.71 | 49.99
St. Croix | 52.20 | 116.42 | 90.64
St. Thomas | 54.65 | 121.17 | 94.46
District of Columbia | 48.11 | 110.14 | 85.23
Maryland | 47.48 | 108.71 | 84.12
Virginia | 48.43 | 110.73 | 85.71
Nationwide Enrollment | 624,309 | 930,567 |
Enrollment Percentage | 40.15% | 59.85% |

4.2.3 Water Utilities

OPM surveys water utility rates in each of the COLA and Washington, DC, survey areas. To compute the “price” of water utilities, we assumed the average monthly water consumption in each area was 7,600 gallons. We derived this estimate from earlier COLA research, and it reflects the average consumption across all of the COLA areas and the Washington, DC, area. We used this quantity along with the rates charged to compute the average monthly water utility cost by survey area. These average monthly costs were the water utility “prices” we used in the price averaging process described in Section 4.3 below.

Not long after we conducted the survey, the Puerto Rico Aqueduct and Sewer Authority significantly increased water utility rates. Because of the significance of this increase, we re-priced water utilities in Puerto Rico and used the higher prices.

4.2.4 Energy Utilities Model

For energy utilities (i.e., electricity, gas, and oil), OPM collects from local utility companies and suppliers in the COLA and DC survey areas the price of various energy utilities used for lighting, cooking, cooling, and other household needs. We use these prices in a heating and cooling engineering model that estimates how many kilowatt hours of electricity, cubic feet of gas, and/or gallons of fuel oil are needed to maintain a specific model home at a constant ambient temperature of 72 degrees in each area.

The engineering model was developed by an economic consulting company under special research conducted jointly for OPM and the plaintiffs' representatives after the Caraballo settlement. The model uses local home construction information and climatic data from the National Oceanic and Atmospheric Administration and also includes the amount of electricity needed to run standard household appliances and lighting. For each survey area, we calculated the cost of heating and cooling the model home using the different heating fuels and electricity for lighting and appliances. Although some homes use additional energy sources, such as wood, coal, kerosene, and solar energy, we did not price or include these in the calculations because, based on the results of the 2000 census, relatively few homes use these as primary energy sources.

For the Caribbean areas, we surveyed the price of electricity to compute home energy costs because the 2000 census indicated electricity is the primary energy source in more than 95 percent of the homes in Puerto Rico and the U.S. Virgin Islands. In the DC area, we surveyed the costs of all three fuels (gas, oil, and electricity). We used percentages based on the usage of the different fuels to compute a weighted average utility fuel cost for the DC area. Appendix 5 shows the energy requirements, relative usage percentages, and total costs by area. We used these total costs as the “price” of utilities in the COLA rate calculations.

4.2.5 Rental Data Hedonic Models

As discussed in Sections 2.5 and 3.3, OPM hired a contractor to collect rental data, including rents and the characteristics of each rental unit. As described in Section 3.3, we collated these rental data with census tract information published by the Bureau of the Census using the longitude and latitude of the rental properties. We used census tracts, which are relatively small geographically, as surrogates for neighborhoods. We believe the census tract characteristics, such as the percentage of school age children, reflect the character and quality of the neighborhoods in which the rental units are found.

OPM uses hedonic regression analysis, which is a type of multiple linear regression analysis, to compare rents in the COLA areas with rents in the DC area. Multiple linear regression is a type of statistical analysis used to determine how the dependent variable (in this case rent) is influenced by the independent variables (in this case the characteristics of the neighborhood and rental unit). In regression analyses, it is very important to choose the independent variables with great care, making certain only those meeting certain statistically significant thresholds are used in the analysis. To select the independent variables, OPM uses a special procedure developed jointly by OPM and economists advising OPM and the Caraballo plaintiffs' representatives. We call this the Variable Selection Protocol (VSP).

VSP is a multi-step procedure that uses objective criteria to eliminate independent variables with little statistical significance in the regression. It also removes variables with inexplicable signs and variables that negatively affect the precision of the rent indexes. An example of an inexplicable sign is clothes washer. It had a positive sign in the 2005 Caribbean regression when the landlord did not provide it. In essence, this was the same as saying on average when the landlord did not provide a clothes washer, the property rented for more than when the landlord provided a clothes washer. Since this is not the expected relationship, VSP dropped the variable.

How VSP drops variables that negatively affect the precision of rent indexes is a bit more complicated to explain. The key variable in the regression is the survey area, i.e., Puerto Rico, St. Croix, St. Thomas/St. John, and the Washington, DC area. As with all variables in the regression, these variables have parameter estimates; but the survey area parameter estimates are especially important because they become the rent indexes for each of the survey areas. Therefore, it is important that the survey area parameter estimates be as accurate as practicable. The accuracy is measured by the standard error of the survey area parameter estimate. In the last steps of VSP, the protocol tests each of the variables in the model and drops variables that if retained would raise the standard errors of the survey area parameter estimates.

Using VSP, we selected variables with the greatest statistical significance. The variables are listed below and are shown in the regression output in Appendix 6.

Age of unit (i.e., number of years since built or extensively remodeled);

Age squared;

Exceptional view (yes/no);

External condition (above average/average or below);

Microwave (yes/no);

Number of square feet combined (i.e., “crossed”) with unit type;

Number of bathrooms

Number of bedrooms;

Percent school age children in census tract;

Percent with BA degree or higher in census tract;

Percent with BA degree squared;

Unit Type (detached house, row/townhouse, duplex/triplex/quadplex, high rise apartment, garden apartment, and other apartments); and

Survey area (Puerto Rico, St. Thomas/St. John, St. Croix, or the DC area).

As is common in this type of analysis and as was done in the research leading to the Caraballo settlement, OPM uses semi-logarithmic regressions. As noted above in this section, the regression produces parameter estimates for each independent variable, including survey area. When the regression uses the Washington, DC area as the base, the regression produces parameter estimates for each of the COLA survey areas: Puerto Rico, St. Thomas/St. John, and St. Croix. The exponent of the survey area parameter estimate (i.e., after the estimate is converted from natural logarithms) multiplied by 100 (following the convention used to express indexes) is the survey area's rent index. This index reflects the difference in rents in each of the COLA survey areas relative to the Washington, DC area, while holding constant important neighborhood and rental unit characteristics captured in the survey and census data.

OPM makes a technical adjustment in the above calculations to correct for a slight bias caused by the use of logarithms because the exponent of the average of the logarithms of a series of numbers is always less than the average of the numbers. Therefore, we added one-half of the standard deviation of the survey area parameter estimate before converting from natural logarithms. (See Arthur Goldberger, “Best Linear Unbiased Prediction in the Generalized Linear Regression Model,” Journal of the American Statistical Association, 1962.) Table 6 shows the resulting rent indexes. We used these indexes as “prices” in the price averaging process described in Section 4.3.

Table 6.—Rent Indexes
Area | Rent index
Puerto Rico | 68.17
St. Croix, USVI | 93.67
St. Thomas/St. John, USVI | 107.55
Washington, DC Area | *100.00
*By definition, the index of the base area is always 100.00.

Appendix 6 shows the regression equation in SAS code and the regression results. (SAS is a proprietary statistical analysis computer software package.)

4.3 Averaging Prices by Item and Area

After OPM collects, reviews, and makes special adjustments in the data, OPM averages the prices of each item by COLA survey area. For example, we priced aspirin at three different pharmacies in Puerto Rico and averaged these prices to compute a single average price for aspirin in Puerto Rico. If we collected more than one price for a particular matched item within the same outlet (e.g., priced equivalent brands), we used the lowest price by item and outlet to compute the average. (The concept is that if the item and brands are equivalent, consumers will choose the one with the lowest price.) We repeated this item-by-item averaging process for each area.

For Washington, DC area prices, we first averaged prices within each of the three DC survey areas described in Section 2.5. Then we computed a simple average of the three DC area survey averages to derive a single DC area average price for each survey item.

4.4 Computing Price Indexes

OPM computes a price index for each of the items found in both the COLA survey area and in the Washington, DC area. To do this with 2005 survey data, we divided the COLA survey area average price by the DC area average price and, following the convention used to express indexes, multiplied the result by 100. For the vast majority of survey items, we next applied consumer expenditure weights to combine price indexes. For a few items, however, OPM first applied special processes as described in Sections 4.4.1 and 4.4.2 below.

4.4.1 Geometric Means

As described in Section 2.3, OPM selects survey items to represent specified detailed expenditure categories (DECs). Generally, OPM surveys only one item per DEC, but in some cases, it surveys multiple items at a single DEC. In these cases, it computes the geometric mean of the price indexes to derive a single price index for the DEC. (A geometric mean is the nth root of the product of n different numbers and is often used in price index computations.) For example, we surveyed two prescription drugs—Amoxicillin and Nexium in the 2005 Caribbean survey. These two different prescription drugs represent a single DEC called “prescription drugs.” To derive a single price index for the DEC, we computed the geometric mean of the price index for Amoxicillin and the price index for Nexium.

4.4.2 Special Private Education Computations

As noted in Section 4.2.1, OPM surveys K-12 private education in the COLA and DC areas and computes an average tuition “price” reflecting all grade levels. Because not everyone sends children to private school, OPM makes an additional special adjustment for K-12 education by applying “use factors.” These use factors reflect the relative extent to which Federal employees make use of private education in the COLA and DC areas. For example, Table 8 shows a use factor of 4.1066 for Puerto Rico. We computed this by dividing 54.33 percent (the percentage of Federal employees in Puerto Rico with at least 1 child in a private school) by 13.23 percent (the percentage of DC area Federal employees with at least 1 child in a private school). OPM obtained the percentages from the results of the 1992/93 Federal Employee Housing and Living Patterns Survey, which is the most current comprehensive data available. Table 7 below shows the use factors and the adjusted price indexes for each COLA survey area.

Table 7.—Summary of Private Education Use Factors and Indexes
COLA survey area | Employees w/children in private schools: Local area | Employees w/children in private schools: DC area | Use factor | Price index | Price index w/use factor
Puerto Rico | 54.33 | 13.23 | 4.1066 | 62.67 | 257.374
St. Croix | 57.27 | 13.23 | 4.3288 | 51.37 | 222.551
St. Thomas | 51.90 | 13.23 | 3.9229 | 49.53 | 194.291

4.5 Applying Consumer Expenditure Weights

Next, OPM applies consumer expenditure weights to aggregate price indexes by expenditure group. As noted in Section 2.3, OPM uses the results of the BLS 2002/2003 Consumer Expenditure Survey to estimate the amounts middle income level consumers in the DC area spend on various items. Using expenditure weights, OPM combines the price indexes according to their relative importance. For example, shelter is the most important expenditure in terms of the COLA survey and represents about 30 percent of total consumer expenditures. On the other hand, the purchase of newspapers at newsstands represents less than 1/10th of 1 percent of total expenditures.

Beginning at the lowest level of expenditure aggregation (e.g., sub-PEG), we computed the relative importance of each survey item within the level of aggregation, multiplied the price index times its expenditure percentage, and summed the cross products for all of the items within the level of aggregation to compute a weighted price index for the level. We repeated this process at each higher level of aggregation (e.g., PEG and MEG). Appendix 7 shows these calculations for each COLA survey area at the PEG and MEG level.

The above process resulted in an overall price index for Puerto Rico (shown in Appendix 7) but not for the U.S. Virgin Islands, which has two separate COLA survey areas. To compute an overall price index for the U.S. Virgin Islands (USVI), OPM computes weights based on the number of General Schedule (GS) and equivalent Federal employees stationed on St. Croix compared with the number stationed on St. Thomas and St. John. OPM then multiplies each of the MEG indexes for St. Croix and St. Thomas/St. John by their respective GS employment weights and sums the cross products to produce an overall price index for the USVI. (See Appendix 7.) Table 8 shows the weights we used.

Table 8.—St. Croix and St. Thomas/St. John Employment Weights
Area | GS employment | Weight (%)
St. Croix, USVI | 284 | 42.26
St. Thomas/St. John, USVI | 388 | 57.74
Total | 672 | 100.00

5. Final Results

To compute the overall living-cost index, OPM adds to the price index a non-price adjustment factor. The parties in Caraballo negotiated these factors to reflect differences in living costs not captured by the surveys, and OPM adopted these factors in regulation as part of the new methodology. The factors for Puerto Rico and the U.S. Virgin Islands are seven and nine index points respectively. The resulting living-cost indexes are shown in Table 9.

Table 9.—Final Living-Cost Comparison Indexes
Allowance area | Index
Puerto Rico | 103.32
U.S. Virgin Islands | 128.21

6. Post Survey Meetings

In July 2005, the St. Thomas, St. Croix, and Puerto Rico CACs held 1-day meetings to review the survey results. We provided the committee members with various reports showing the data we collected, examples of how we reviewed these data, the data we used in our analyses, and the results at the PEG and MEG level, as shown in Appendix 7. We explained how we analyzed the rental data and used expenditure weights to combine price indexes to reflect overall living costs.

Appendix 1.—Publication in the Federal Register of Prior Survey Results: 1990-2005
Citation | Contents
70 FR 44989 | Report on 2004 living-cost surveys conducted in Hawaii and Guam.
69 FR 12002 | Report on 2003 living-cost surveys conducted in Alaska.
69 FR 6020 | Report on 2002 living-cost surveys conducted in Puerto Rico and the U.S. Virgin Islands.
65 FR 44103 | Report on 1998 living-cost surveys conducted in Alaska, Hawaii, Guam, Puerto Rico, and the U.S. Virgin Islands.
63 FR 56432 | Report on 1997 living-cost surveys conducted in Alaska, Hawaii, Guam, Puerto Rico, and the U.S. Virgin Islands.
62 FR 14190 | Report on 1996 living-cost surveys conducted in Alaska, Hawaii, Guam, Puerto Rico, and the U.S. Virgin Islands.
61 FR 4070 | Report on winter 1995 living-cost surveys conducted in Alaska.
60 FR 61332 | Report on summer 1994 living-cost surveys conducted in Hawaii, Guam, Puerto Rico, and the U.S. Virgin Islands.
59 FR 45066 | Report on winter 1994 living-cost surveys conducted in Alaska.
58 FR 45558 | Report on summer 1992 and winter 1993 living-cost surveys conducted in Alaska, Hawaii, Guam, Puerto Rico, and the U.S. Virgin Islands.
58 FR 27316 | Report on summer 1993 living-cost surveys conducted in Hawaii, Guam, Puerto Rico, and the U.S. Virgin Islands.
57 FR 58556 | Report on summer 1991 and winter 1992 living-cost surveys conducted in Alaska, Hawaii, Guam, Puerto Rico, and the U.S. Virgin Islands.
56 FR 7902 | Report on summer 1990 living-cost surveys conducted in Alaska, Hawaii, Guam, Puerto Rico, and the U.S. Virgin Islands.

Appendix 2.—Estimated DC Area Middle Income Annual Consumer Expenditures
[Asterisks show Detailed Expenditure Categories (DECs) for which OPM surveyed items.]
Level | Code | Group | Category name | Expenditures
1 | TOTALEXP |  | Total Expenditure | $50,478.63
2 | FOODTOTL | MEG | Food | 6,295.89
3 | CERBAKRY | PEG | Cereals and bakery products | 469.08
4 | CEREAL |  | Cereals and cereal products | 166.15
5 | 010110 |  | Flour | 9.36
5 | 010120 |  | Prepared flour mixes | 15.24
5 | 010210 |  | Ready-to-eat and cooked cereals * | 92.05
5 | 010310 |  | Rice * | 20.51
5 | 010320 |  | Pasta, cornmeal and other cereal products * | 28.98
4 | BAKERY |  | Bakery products | 302.94
5 | BREAD |  | Bread | 86.62
6 | 020110 |  | White bread * | 36.93
6 | 020210 |  | Bread, other than white * | 49.69
5 | CRAKCOOK |  | Crackers and cookies | 69.88
6 | 020510 |  | Cookies * | 45.17
6 | 020610 |  | Crackers | 24.70
5 | 020810 |  | Frozen and refrigerated bakery products * | 23.52
5 | OTHBAKRY |  | Other bakery products | 122.92
6 | 020310 |  | Biscuits and rolls * | 41.87
6 | 020410 |  | Cakes and cupcakes * | 38.56
6 | 020620 |  | Bread and cracker products | 3.34
6 | 020710 |  | Sweetrolls, coffee cakes, doughnuts | 28.98
6 | 020820 |  | Pies, tarts, turnovers | 10.17
3 | ANIMAL | PEG | Meats, poultry, fish, and eggs | 763.51
4 | BEEF |  | Beef | 191.96
5 | 030110 |  | Ground beef * | 74.89
5 | ROAST |  | Roast | 32.98
6 | 030210 |  | Chuck roast * | 9.82
6 | 030310 |  | Round roast * | 7.66
6 | 030410 |  | Other roast | 15.51
5 | STEAK |  | Steak | 70.41
6 | 030510 |  | Round steak * | 11.50
6 | 030610 |  | Sirloin steak * | 21.63
6 | 030710 |  | Other steak | 37.29
5 | 030810 |  | Other beef | 13.67
4 | PORK |  | Pork | 117.76
5 | 040110 |  | Bacon * | 19.09
5 | 040210 |  | Pork chops * | 27.43
5 | HAM |  | Ham | 27.97
6 | 040310 |  | Ham, not canned * | 26.30
6 | 040610 |  | Canned ham * | 1.67
5 | 040510 |  | Sausage | 19.55
5 | 040410 |  | Other pork | 23.72
4 | OTHRMEAT |  | Other meats | 92.84
5 | 050110 |  | Frankfurters * | 19.84
5 | LNCHMEAT |  | Lunch meats (cold cuts) | 62.16
6 | 050210 |  | Bologna, liverwurst, salami * | 16.80
6 | 050310 |  | Other lunchmeats | 45.37
5 | LAMBOTHR |  | Lamb, organ meats and others | 10.84
6 | 050410 |  | Lamb and organ meats | 5.95
6 | 050900 |  | Mutton, goat and game | 4.89
4 | POULTRY |  | Poultry | 158.21
5 | CHICKEN |  | Fresh and frozen chickens | 125.84
6 | 060110 |  | Fresh and frozen whole chicken * | 34.20
6 | 060210 |  | Fresh and frozen chicken parts * | 91.63
5 | 060310 |  | Other poultry | 32.37
4 | FISHSEA |  | Fish and seafood | 168.07
5 | 070110 |  | Canned fish and seafood * | 23.42
5 | 070230 |  | Fresh fish and shellfish * | 99.54
5 | 070240 |  | Frozen fish and shellfish * | 45.11
4 | 080110 |  | Eggs | 34.67
3 | DAIRY | PEG | Dairy products | 348.56
4 | MILKCRM |  | Fresh milk and cream | 128.13
5 | 090110 |  | Fresh milk, all types * | 115.34
5 | 090210 |  | Cream | 12.78
4 | OTHDAIRY |  | Other dairy products | 220.43
5 | 100110 |  | Butter | 19.44
5 | 100210 |  | Cheese * | 105.53
5 | 100410 |  | Ice cream and related products * | 64.36
5 | 100510 |  | Miscellaneous dairy products | 31.10
3 | FRUITVEG | PEG | Fruits and vegetables | 385.44
4 | FRSHFRUT |  | Fresh fruits | 194.98
5 | 110110 |  | Apples * | 36.70
5 | 110210 |  | Bananas * | 33.87
5 | 110310 |  | Oranges * | 19.74
5 | 110510 |  | Citrus fruits, excluding oranges | 15.47
5 | 110410 |  | Other fresh fruits | 89.20
4 | FRESHVEG |  | Fresh vegetables | 190.46
5 | 120110 |  | Potatoes * | 35.89
5 | 120210 |  | Lettuce * | 24.14
5 | 120310 |  | Tomatoes * | 36.87
5 | 120410 |  | Other fresh vegetables | 93.56
3 | PROCFOOD | PEG | Processed Foods | 778.76
4 | PROCFRUT |  | Processed fruits | 136.45
5 | FRZNFRUT |  | Frozen fruits and fruit juices | 14.23
6 | 130110 |  | Frozen orange juice * | 7.17
6 | 130121 |  | Frozen fruits | 3.39
6 | 130122 |  | Frozen fruit juices | 3.67
5 | 130310 |  | Canned fruits * | 17.39
5 | 130320 |  | Dried fruit | 6.56
5 | 130211 |  | Fresh fruit juice | 26.62
5 | 130212 |  | Canned and bottled fruit juice * | 71.65
4 | PROCVEG |  | Processed vegetables | 87.29
5 | 140110 |  | Frozen vegetables * | 29.28
5 | CANDVEG |  | Canned and dried vegetables and juices | 58.01
6 | 140210 |  | Canned beans * | 14.02
6 | 140220 |  | Canned corn | 7.68
6 | 140230 |  | Canned miscellaneous vegetables | 17.88
6 | 140320 |  | Dried peas | 0.29
6 | 140330 |  | Dried beans | 2.45
6 | 140340 |  | Dried miscellaneous vegetables | 8.11
6 | 140310 |  | Dried processed vegetables | 0.31
6 | 140410 |  | Frozen vegetable juices | 0.05
6 | 140420 |  | Fresh and canned vegetable juices | 7.22
4 | MISCFOOD |  | Miscellaneous foods | 555.03
5 | FRZNPREP |  | Frozen prepared foods | 108.93
6 | 180210 |  | Frozen meals * | 30.41
6 | 180220 |  | Other frozen prepared foods | 78.52
5 | 180110 |  | Canned and packaged soups * | 37.66
5 | SNACKS |  | Potato chips, nuts, and other snacks | 113.33
6 | 180310 |  | Potato chips and other snacks * | 87.21
6 | 180320 |  | Nuts | 26.12
5 | CONDMNTS |  | Condiments and seasonings | 93.03
6 | 180410 |  | Salt, spices, other seasonings * | 22.78
6 | 180420 |  | Olives, pickles, relishes | 8.89
6 | 180510 |  | Sauces and gravies * | 42.23
6 | 180520 |  | Baking needs and miscellaneous products | 19.14
5 | OTHRPREP |  | Other canned and packaged prepared foods | 157.25
6 | 180611 |  | Prepared salads | 18.28
6 | 180612 |  | Prepared desserts * | 11.91
6 | 180620 |  | Baby food * | 27.52
6 | 180710 |  | Miscellaneous prepared foods | 99.28
6 | 180720 |  | Vitamin supplements | 0.26
5 | 190904 |  | Food prepared by consumer on out-of-town trips | 44.83
3 | OTHRFOOD | PEG | Other food at home | 193.31
4 | SWEETS |  | Sugar and other sweets | 117.73
5 | 150110 |  | Candy and chewing gum * | 77.44
5 | 150211 |  | Sugar * | 16.18
5 | 150212 |  | Artificial sweeteners * | 3.14
5 | 150310 |  | Jams, preserves, other sweets * | 20.98
4 | FATSOILS |  | Fats and oils | 75.57
5 | 160110 |  | Margarine * | 9.66
5 | 160211 |  | Fats and oils * | 22.52
5 | 160212 |  | Salad dressings * | 23.99
5 | 160310 |  | Nondairy cream and imitation milk | 8.56
5 | 160320 |  | Peanut butter | 10.85
3 | NALCBEVG | PEG | Nonalcoholic beverages | 233.77
4 | 170110 |  | Cola * | 80.16
4 | 170210 |  | Other carbonated drinks | 43.68
4 | COFFEE |  | Coffee | 32.17
5 | 170310 |  | Roasted coffee * | 21.36
5 | 170410 |  | Instant and freeze dried coffee | 10.80
4 | 170510 |  | Noncarbonated fruit flavored drinks * | 17.37
4 | 170520 |  | Tea | 13.85
4 | 200112 |  | Nonalcoholic beer | 0.82
4 | 170530 |  | Other nonalcoholic beverages and ice | 45.73
3 | FOODAWAY | PEG | Food away from home | 2,737.32
4 | RESTRANT |  | Meals at restaurants, carry-outs and other | 2,320.19
5 | LUNCH |  | Lunch | 873.65
6 | 190111 |  | Lunch at fast food, take-out, delivery, etc. * | 506.19
6 | 190112 |  | Lunch at full service restaurants * | 247.12
6 | 190113 |  | Lunch at vending machines/mobile vendors | 10.25
6 | 190114 |  | Lunch at employer and school cafeterias | 110.10
5 | DINNER |  | Dinner | 845.00
6 | 190211 |  | Dinner at fast food, take-out, delivery, etc. * | 287.84
6 | 190212 |  | Dinner at full service restaurants * | 550.87
6 | 190213 |  | Dinner at vending machines/mobile vendors | 3.33
6 | 190214 |  | Dinner at employer and school cafeterias | 2.95
5 | SNKNABEV |  | Snacks and nonalcoholic beverages | 360.78
6 | 190311 |  | Snacks/nonalcoholic bev. at fast food, etc. * | 244.08
6 | 190312 |  | Snacks/nonalcoholic bev. at full svc restaurants | 41.71
6 | 190313 |  | Snacks/nonalcoholic bev. at vending mach. etc. | 62.77
6 | 190314 |  | Snacks/nonalcoholic bev. cafeterias | 12.23
5 | BRKFBRUN |  | Breakfast and brunch | 240.76
6 | 190321 |  | Breakfast & brunch at fast food, take-out, etc. * | 130.52
6 | 190322 |  | Breakfast & brunch at full service restaurants * | 100.86
6 | 190323 |  | Breakfast & brunch at vending machines | 2.48
6 | 190324 |  | Breakfast & brunch at cafeterias | 6.89
4 | NONRESME |  | Non Restaurant Meals | 417.13
5 | 190901 |  | Board (including at school) | 22.99
5 | 190902 |  | Catered affairs | 57.90
5 | 190903 |  | Food on out-of-town trips | 227.85
5 | 790430 |  | School lunches | 78.00
5 | 800700 |  | Meals as pay | 30.38
3 | ALCBEVG | PEG | Alcoholic beverages | 386.15
4 | ALCHOME |  | At home | 246.23
5 | 200111 |  | Beer and ale * | 139.90
5 | 200210 |  | Whiskey | 16.41
5 | 200310 |  | Wine * | 59.74
5 | 200410 |  | Other alcoholic beverages | 30.18
4 | ALCAWAY |  | Away from home | 139.92
5 | BEERNALE |  | Beer and ale | 56.70
6 | 200511 |  | Beer and ale at fast food, take-out, etc. | 11.54
6 | 200512 |  | Beer and ale at full service restaurants * | 37.05
6 | 200513 |  | Beer and ale at vending machines, etc. | 0.25
6 | 200516 |  | Beer and ale at catered affairs | 7.86
5 | WINE |  | Wine | 22.78
6 | 200521 |  | Wine at fast food, take-out, delivery, etc. | 4.86
6 | 200522 |  | Wine at full service restaurants * | 17.02
6 | 200523 |  | Wine at vending machines and mobile vendors | 0.00
6 | 200526 |  | Wine at catered affairs | 0.91
5 | OTHALCBV |  | Other alcoholic beverages | 60.44
6 | 200531 |  | Other alcoholic bev. at fast food, take-out, etc. | 4.80
6 | 200532 |  | Other alcoholic bev. at full svc. restaurants | 24.64
6 | 200533 |  | Other alcoholic bev. at vending machines | 0.00
6 | 200536 |  | Other alcoholic bev. at catered affairs | 3.46
6 | 200900 |  | Alcoholic beverages purchased on trips | 27.53
2 | SHEL&UTL | MEG | Shelter and Utilities | 17,855.36
3 | SHELTER | PEG | Shelter | 15,892.77
4 | RNTLEQ |  | Rental Equivalence (estimated monthly X 12) | 12,571.68
4 | RENTXX |  | Rented Dwelling (rent minus tenants ins.) * | 2,790.60
4 | 350110 |  | Tenants Insurance (tenants ins X 2) * | 28.36
4 | OTHLODGE |  | Other Lodging (Other minus housing at school) | 502.14
3 | ENERUT | PEG | Energy Utilities * | 1,601.23
3 | WATERX | PEG | Water and other public services * | 361.36
2 | HHF&SUPP | MEG | Household Furnishings and Supplies | 3,051.71
3 | HHOPER | PEG | Household operations | 748.24
4 | HHPERSRV |  | Personal services | 494.17
5 | 340210 |  | Babysitting and child care * | 71.82
6 | 340211 |  | Child care in own home | 25.44
6 | 340212 |  | Child care outside own home | 46.38
5 | 340906 |  | Care for elderly, invalids, handicapped, etc. | 145.28
5 | 340910 |  | Adult day care centers | 3.33
5 | 670310 |  | Day-care centers, nursery, and preschools * | 273.75
4 | HHOTHXPN |  | Other household expenses | 254.06
5 | 340310 |  | Housekeeping services * | 53.30
5 | 340410 |  | Gardening, lawn care service * | 68.10
5 | 340420 |  | Water softening service | 4.60
5 | 340520 |  | Household laundry and dry cleaning, sent out | 1.46
5 | 340530 |  | Coin-operated household laundry & dry cleaning | 5.79
5 | 340914 |  | Services for termite/pest control | 16.10
5 | 340915 |  | Home security system service fee | 18.60
5 | 340903 |  | Other home services | 12.33
5 | 330511 |  | Termite/pest control products | 1.05
5 | 340510 |  | Moving, storage, freight express * | 42.65
5 | 340620 |  | Appliance repair, including service center | 13.74
5 | 340630 |  | Reupholstering, furniture repair | 9.70
5 | 340901 |  | Repairs/rentals of lawn/garden equip. | 4.58
5 | 340907 |  | Appliance rental | 0.77
5 | 340908 |  | Rental of office equipment for non-business use | 0.73
5 | 340913 |  | Repair of miscellaneous household equip. | 0.54
5 | 990900 |  | Rental and installation of dishwashers & disposals | 0.00
3 | HKPGSUPP | PEG | Housekeeping supplies | 659.37
4 | LAUNDRY |  | Laundry and cleaning supplies | 147.93
5 | 330110 |  | Soaps and detergents * | 83.46
5 | 330210 |  | Other laundry cleaning products | 64.47
4 | HKPGOTHR |  | Other household products | 362.13
5 | 330310 |  | Cleansing & toilet tissue, paper towels/nap. * | 74.28
5 | 330510 |  | Miscellaneous household products | 108.87
5 | 330610 |  | Lawn and garden supplies * | 178.99
4 | POSTAGE |  | Postage and stationery | 149.31
5 | 330410 |  | Stationery, stationery supplies, giftwraps * | 63.54
5 | 340110 |  | Postage | 83.73
6 | STAMP |  | Stamp * | 79.21
6 | PARPST |  | Parcel Post * | 4.52
5 | 340120 |  | Delivery services | 2.04
3 | TEX&RUGS | PEG | Textiles and Area Rugs | 168.54
4 | HHTXTILE |  | Household textiles | 142.15
5 | 280110 |  | Bathroom linens * | 23.02
5 | 280120 |  | Bedroom linens * | 70.60
5 | 280130 |  | Kitchen and dining room linens | 12.92
5 | 280210 |  | Curtains and draperies | 15.88
5 | 280220 |  | Slipcovers, decorative pillows | 5.40
5 | 280230 |  | Sewing materials for slipcovers, curtains, etc. | 12.81
5 | 280900 |  | Other linens | 1.51
4 | FLOORCOV |  | Floor coverings | 26.40
5 | RNTCARPT |  | Wall-to-wall carpeting (renter) | 2.67
6 | 230134 |  | Wall-to-wall carpet (renter) | 1.02
6 | 320163 |  | Wall-to-wall carpet (replacement)(renter) | 1.65
5 | 320111 |  | Floor coverings, nonpermanent * | 23.72
3 | FURNITUR | PEG | Furniture | 542.10
4 | 290110 |  | Mattress and springs * | 79.01
4 | 290120 |  | Other bedroom furniture | 90.09
4 | 290210 |  | Sofas | 141.93
4 | 290310 |  | Living room chairs * | 45.85
4 | 290320 |  | Living room tables | 20.16
4 | 290410 |  | Kitchen, dining room furniture * | 74.53
4 | 290420 |  | Infants' furniture | 9.59
4 | 290430 |  | Outdoor furniture | 15.83
4 | 290440 |  | Wall units, cabinets and other occasional furniture | 65.09
3 | MAJAPPL | PEG | Major appliances | 178.87
4 | 230116 |  | Dishwashers (built-in), disposals, range hoods | 12.58
5 | 230117 |  | Dishwasher - owned home | 1.26
5 | 230118 |  | Dishwasher rented home | 11.31
4 | 300110 |  | Refrigerators, freezers * | 52.04
5 | 300111 |  | Refrigerators, freezers (renter) | 6.39
5 | 300112 |  | Refrigerators, freezers (owned home) | 45.65
4 | 300210 |  | Washing machines * | 22.98
5 | 300211 |  | Washing machines (renter) | 2.99
5 | 300212 |  | Washing machines (owned home) | 19.99
4 | 300220 |  | Clothes dryers | 16.68
5 | 300221 |  | Clothes dryers (renter) | 2.91
5 | 300222 |  | Clothes Dryer (owned home) | 13.78
4 | 300310 |  | Cooking stoves, ovens * | 23.86
5 | 300311 |  | Cooking stoves, ovens (renter) | 2.04
5 | 300312 |  | Cooking stoves, ovens (owned home) | 21.81
4 | 300320 |  | Microwave ovens | 9.73
5 | 300321 |  | Microwave ovens (renter) | 2.03
5 | 300322 |  | Microwave ovens (owned home) | 7.70
4 | 300330 |  | Portable dishwasher | 0.70
5 | 300331 |  | Portable dishwasher (renter) | 0.34
5 | 300332 |  | Portable dishwasher (owned home) | 0.36
4 | 300410 |  | Window air conditioners | 40.31
5 | 300411 |  | Window air conditioners (renter) | 1.57
5 | 300412 |  | Window air conditioners (owned home) | 6.62
5 | 320511 |  | Electric floor cleaning equipment * | 24.41
5 | 320512 |  | Sewing machines | 3.22
5 | 300900 |  | Miscellaneous household appliances | 4.48
3 | SMAPPHWR | PEG | Small appliances, miscellaneous housewares | 124.04
4 | HOUSWARE |  | Housewares | 93.41
5 | 320310 |  | Plastic dinnerware | 1.51
5 | 320320 |  | China and other dinnerware * | 18.87
5 | 320330 |  | Flatware | 4.17
5 | 320340 |  | Glassware | 7.31
5 | 320350 |  | Silver serving pieces | 2.84
5 | 320360 |  | Other serving pieces | 2.08
5 | 320370 |  | Nonelectric cookware * | 31.21
5 | 320380 |  | Tableware, nonelectric kitchenware | 25.42
4 | SMLLAPPL |  | Small appliances | 30.64
5 | 320521 |  | Small electric kitchen appliances * | 22.93
5 | 320522 |  | Portable heating and cooling equipment | 7.71
3 | MISCHHEQ | PEG | Miscellaneous household equipment | 630.55
4 | 320120 |  | Window coverings | 17.09
4 | 320130 |  | Infants' equipment | 15.58
4 | 320140 |  | Laundry and cleaning equip | 22.42
4 | 320150 |  | Outdoor equipment * | 28.38
4 | 320210 |  | Clocks | 8.20
4 | 320220 |  | Lamps and lighting fixtures | 11.65
4 | 320231 |  | Other household decorative items | 169.49
4 | 320232 |  | Telephones and accessories * | 44.27
4 | 320410 |  | Lawn and garden equipment * | 71.89
4 | 320420 |  | Power tools * | 59.20
4 | 320901 |  | Office furniture for home use * | 10.48
4 | 320902 |  | Hand tools * | 12.41
4 | 320903 |  | Indoor plants, fresh flowers * | 60.03
4 | 320904 |  | Closet and storage items | 11.49
4 | 340904 |  | Rental of furniture | 6.66
4 | 430130 |  | Luggage | 6.28
4 | 690210 |  | Telephone answering devices | 1.70
4 | 690220 |  | Calculators | 1.55
4 | 690230 |  | Business equipment for home use | 0.67
4 | 320430 |  | Other hardware | 13.11
4 | 690242 |  | Smoke alarms (owned home) | 1.32
4 | 690241 |  | Smoke alarms (renter) | 0.07
4 | 690243 |  | Smoke alarms (owned vacation) | 0.00
4 | 690245 |  | Other household appliances (owned home) | 10.42
4 | 690244 |  | Other household appliances (renter) | 1.94
4 | 320905 |  | Miscellaneous household equipment and parts | 44.27
2 | APPAREL | MEG | Apparel and services | 1,894.51
3 | MENBOYS | PEG | Men and boys | 426.37
4 | MENS |  | Men, 16 and over | 356.27
5 | 360110 |  | Men's suits * | 29.16
5 | 360120 |  | Men's sportcoats, tailored jackets | 8.37
5 | 360210 |  | Men's coats and jackets * | 36.38
5 | 360311 |  | Men's underwear * | 19.56
5 | 360312 |  | Men's hosiery | 16.47
5 | 360320 |  | Men's nightwear | 3.57
5 | 360330 |  | Men's accessories | 30.14
5 | 360340 |  | Men's sweaters and vests | 12.53
5 | 360350 |  | Men's active sportswear | 14.26
5 | 360410 |  | Men's shirts * | 92.32
5 | 360511 |  | Men's pants * | 70.83
5 | 360512 |  | Men's shorts, shorts sets | 12.00
5 | 360901 |  | Men's uniforms | 4.10
5 | 360902 |  | Men's costumes | 6.60
4 | BOYS |  | Boys, 2 to 15 | 70.10
5 | 370110 |  | Boys' coats and jackets | 5.67
5 | 370120 |  | Boys' sweaters | 2.84
5 | 370130 |  | Boys' shirts * | 10.74
5 | 370211 |  | Boys' underwear | 3.19
5 | 370212 |  | Boys' nightwear | 2.55
5 | 370213 |  | Boys' hosiery | 3.28
5 | 370220 |  | Boys' accessories | 3.78
5 | 370311 |  | Boys' suits, sportcoats, vests | 2.11
5 | 370312 |  | Boys' pants * | 20.67
5 | 370313 |  | Boys' shorts, shorts sets | 6.58
5 | 370903 |  | Boys' uniforms | 2.44
5 | 370904 |  | Boys' active sportswear | 3.13
5 | 370902 |  | Boys' costumes | 3.11
3 | WMNSGRLS | PEG | Women and girls | 726.18
4 | WOMENS |  | Women, 16 and over | 589.41
5 | 380110 |  | Women's coats and jackets * | 43.46
5 | 380210 |  | Women's dresses | 46.95
5 | 380311 |  | Women's sportcoats, tailored jackets | 4.29
5 | 380312 |  | Women's vests and sweaters * | 39.22
5 | 380313 |  | Women's shirts, tops, blouses * | 124.57
5 | 380320 |  | Women's skirts | 13.81
5 | 380331 |  | Women's pants * | 102.91
5 | 380332 |  | Women's shorts, shorts sets | 15.85
5 | 380340 |  | Women's active sportswear | 26.76
5 | 380410 |  | Women's sleepwear | 29.27
5 | 380420 |  | Women's undergarments | 41.84
5 | 380430 |  | Women's hosiery | 25.45
5 | 380510 |  | Women's suits | 29.07
5 | 380901 |  | Women's accessories | 26.79
5 | 380902 |  | Women's uniforms | 8.34
5 | 380903 |  | Women's costumes | 10.84
4 | GIRLS |  | Girls, 2 to 15 | 136.77
5 | 390110 |  | Girls' coats and jackets | 7.12
5 | 390120 |  | Girls' dresses and suits * | 15.64
5 | 390210 |  | Girls' shirts, blouses, sweaters * | 38.23
5 | 390221 |  | Girls' skirts and pants * | 28.04
5 | 390222 |  | Girls' shorts, shorts sets | 9.87
5 | 390230 |  | Girls' active sportswear | 8.91
5 | 390310 |  | Girls' underwear and sleepwear | 8.21
5 | 390321 |  | Girls' hosiery | 6.05
5 | 390322 |  | Girls' accessories | 5.53
5 | 390901 |  | Girls' uniforms | 4.13
5 | 390902 |  | Girls' costumes | 5.04
3 | INFANT | PEG | Children under 2 | 98.15
4 | 410110 |  | Infant coat, jacket, snowsuit | 2.88
4 | 410120 |  | Infant dresses, outerwear | 28.72
4 | 410130 |  | Infant underwear * | 54.63
4 | 410140 |  | Infant nightwear, loungewear * | 4.56
4 | 410901 |  | Infant accessories | 7.36
3 | FOOTWEAR | PEG | Footwear | 361.44
4 | 400110 |  | Men's footwear * | 116.54
4 | 400210 |  | Boys' footwear | 50.37
4 | 400310 |  | Women's footwear * | 150.52
4 | 400220 |  | Girls' footwear | 44.01
3 | OTHAPPRL | PEG | Other apparel products and services | 282.37
4 | 420110 |  | Material for making clothes | 8.54
4 | 420120 |  | Sewing patterns and notions | 10.97
4 | 430110 |  | Watches * | 15.10
4 | 430120 |  | Jewelry * | 111.63
4 | 440110 |  | Shoe repair and other shoe service | 1.36
4 | 440120 |  | Coin-operated apparel laundry/dry cleaning * | 51.21
4 | 440130 |  | Alteration, repair and tailoring of apparel | 6.71
4 | 440140 |  | Clothing rental | 4.10
4 | 440150 |  | Watch and jewelry repair | 6.81
4 | 440210 |  | Apparel laundry & cleaning not coin-operated * | 65.60
4 | 440900 |  | Clothing storage | 0.33
2 | TRANS | MEG | Transportation | 8,255.95
3 | MOTVEHCO | PEG | Motor Vehicle Costs | 4,513.14
4 | VEHPURCH |  | Vehicle purchases (net outlay) | 3,724.79
5 | NEWCARS |  | Cars and trucks, new * | 1,848.01
6 | 450110 |  | New cars | 1,010.59
6 | 450210 |  | New trucks | 837.42
5 | USEDCARS |  | Cars and trucks, used | 1,819.71
6 | 460110 |  | Used cars | 1,039.13
6 | 460901 |  | Used trucks | 780.58
5 | OTHVEHCL |  | Other vehicles | 57.07
6 | 450220 |  | New motorcycles | 25.25
6 | 450900 |  | New aircraft | 0.00
6 | 460902 |  | Used motorcycles | 31.82
6 | 460903 |  | Used aircraft | 0.00
4 | VEHFINCH |  | Vehicle finance charges | 464.39
5 | 510110 |  | Automobile finance charges * | 236.42
5 | 510901 |  | Truck finance charges | 209.55
5 | 510902 |  | Motorcycle and plane finance charges | 3.01
5 | 850300 |  | Other vehicle finance charges | 15.42
4 | LEASVEH |  | Leased vehicles | 189.11
5 | 450310 |  | Car lease payments | 97.53
5 | 450313 |  | Cash downpayment (car lease) | 6.32
5 | 450314 |  | Termination fee (car lease) | 0.10
5 | 450410 |  | Truck lease payments | 82.58
5 | 450413 |  | Cash downpayment (truck lease) | 1.92
5 | 450414 |  | Termination fee (truck lease) | 0.66
4 | VEHXP&LV |  | Other Vehicle Expenses and Licenses | 134.85
5 | 520110 |  | State & Local Registration * | 74.33
6 | 520111 |  | Vehicle reg. state | 66.78
6 | 520112 |  | Vehicle reg. local | 7.55
5 | 520310 |  | Driver's license | 5.81
5 | 520410 |  | Vehicle inspection (added to S&L registration) | 8.22
5 | PARKING |  | Parking fees | 18.60
6 | 520531 |  | Parking fees in home city, excluding residence | 15.60
6 | 520532 |  | Parking fees, out-of-town trips | 3.00
5 | 520541 |  | Tolls | 8.35
5 | 520542 |  | Tolls on out-of-town trips | 3.36
5 | 520550 |  | Towing charges | 5.22
5 | 620113 |  | Automobile service clubs | 10.95
3 | GASOIL | PEG | Gasoline and motor oil | 1,381.31
4 | 470111 |  | Gasoline * | 1,252.70
4 | 470112 |  | Diesel fuel | 12.91
4 | 470113 |  | Gasoline on out-of-town trips | 101.98
4 | 470114 |  | Gasohol | 0.00
4 | 470211 |  | Motor oil | 12.69
4 | 470212 |  | Motor oil on out-of-town trips | 1.03
3 | CARP&R | PEG | Maintenance and repairs | 781.44
4 | CARPAR |  | Maintenance and Repair Parts | 178.68
5 | 470220 |  | Coolant, additives, brake, transmission fluids | 5.01
5 | 480110 |  | Tires - purchased, replaced, installed * | 102.66
5 | 480213 |  | Parts, equipment, and accessories * | 56.66
5 | 480214 |  | Vehicle audio equipment, excluding labor | 7.11
5 | 480212 |  | Vehicle products | 7.23
4 | CARREP |  | Maintenance and Repair Service * | 602.76
5 | 490000 |  | Misc. auto repair, servicing | 33.31
5 | 490110 |  | Body work and painting | 29.25
5 | 490211 |  | Clutch, transmission repair | 57.68
5 | 490212 |  | Drive shaft and rear-end repair | 8.48
5 | 490221 |  | Brake work, including adjustments | 65.88
5 | 490231 |  | Repair to steering or front-end | 17.83
5 | 490232 |  | Repair to engine cooling system | 24.69
5 | 490311 |  | Motor tune-up | 47.42
5 | 490312 |  | Lube, oil change, and oil filters | 75.38
5 | 490313 |  | Front-end alignment, wheel balance and rotation | 14.38
5 | 490314 |  | Shock absorber replacement | 6.83
5 | 490316 |  | Gas tank repair, replacement | 3.96
5 | 490318 |  | Repair tires and other repair work | 46.63
5 | 490319 |  | Vehicle air conditioning repair | 17.89
5 | 490411 |  | Exhaust system repair | 15.45
5 | 490412 |  | Electrical system repair | 35.66
5 | 490413 |  | Motor repair, replacement | 90.59
5 | 490900 |  | Auto repair service policy | 11.45
3 | 500110 | PEG | Vehicle insurance * | 898.90
3 | RENTVEH | PEG | Rented vehicles | 27.38
3 | PUBTRANS | PEG | Public transportation | 653.77
4 | 530110 |  | Airline fares * | 401.70
4 | 530210 |  | Intercity bus fares | 26.64
4 | 530510 |  | Intercity train fares | 23.41
4 | 530901 |  | Ship fares | 58.98
4 | LOCTRANS |  | Local Transportation (Not a CES item) | 143.04
5 | 530311 |  | Intracity mass transit fares | 81.26
5 | 530312 |  | Local trans. on out-of-town trips | 16.87
5 | 530411 |  | Taxi fares and limousine service on trips | 9.92
5 | 530412 |  | Taxi fares and limousine service * | 30.95
5 | 530902 |  | School bus | 4.03
2 | MEDICAL | MEG | Medical | 2,349.45
3 | HEALTINS | PEG | Health insurance * | 1,200.79
4 | COMHLTIN |  | Commercial health insurance | 239.84
5 | 580111 |  | Traditional fee for service health plan (not BCBS) | 78.16
5 | 580113 |  | Preferred provider health plan (not BCBS) | 161.68
4 | BCBS |  | Blue Cross, Blue Shield | 356.45
5 | 580112 |  | Traditional fee for service health plan (BCBS) | 62.69
5 | 580114 |  | Preferred provider health plan (BCBS) | 118.30
5 | 580312 |  | Health maintenance organization (BCBS) | 124.28
5 | 580904 |  | Commercial Medicare supplement (BCBS) | 45.03
5 | 580906 |  | Other health insurance (BCBS) | 6.15
4 | 580311 |  | Health maintenance organization (not BCBS) | 301.65
4 | 580901 |  | Medicare payments | 146.35
4 | COMEDOTH |  | Commercial Medicare suppl & health insurance | 156.49
5 | 580903 |  | Commercial Medicare supplement (not BCBS) | 88.03
5 | 580905 |  | Other health insurance (not BCBS) | 68.46
3 | MEDSERVS | PEG | Medical services | 707.61
4 | 560110 |  | Physician's services * | 181.00
4 | 560210 |  | Dental services * | 252.69
4 | 560310 |  | Eyecare services | 50.18
4 | 560400 |  | Service by professionals other than physician | 46.56
4 | 560330 |  | Lab tests, x-rays | 35.40
4 | 570110 |  | Hospital room * | 43.75
4 | 570210 |  | Hospital service other than room | 65.77
4 | 570240 |  | Medical care in retirement community | 0.00
4 | 570220 |  | Care in convalescent or nursing home | 15.11
4 | 570902 |  | Repair of medical equipment | 0.00
4 | 570230 |  | Other medical care services | 17.15
3 | DRUGS&ME | PEG | Drugs and Medical Supplies | 441.05
4 | DRUGS |  | Drugs | 346.85
5 | 550210 |  | Nonprescription drugs * | 49.88
5 | 550410 |  | Nonprescription vitamins | 30.82
5 | 540000 |  | Prescription drugs * | 266.14
4 | MEDSUPPL |  | Medical supplies | 94.20
5 | 550110 |  | Eyeglasses and contact lenses * | 52.60
5 | 550340 |  | Hearing aids | 8.94
5 | 550310 |  | Topicals and dressings * | 23.57
5 | 550320 |  | Medical equipment for general use | 2.89
5 | 550330 |  | Supportive and convalescent medical equipment | 4.55
5 | 570901 |  | Rental of medical equipment | 0.44
5 | 570903 |  | Rental of supportive, convalescent equipment | 1.22
2 | RECREATN | MEG | Recreation | 2,850.41
3 | FEESADM | PEG | Fees and admissions | 606.30
4 | 610900 |  | Recreation expenses, out-of-town trips | 32.13
4 | 620111 |  | Social, recreation, civic club membership * | 106.53
4 | 620121 |  | Fees for participant sports * | 91.47
4 | 620122 |  | Participant sports, out-of-town trips | 27.09
4 | 620211 |  | Movie, theater, opera, ballet * | 129.68
4 | 620212 |  | Movie, other admissions, out-of-town trips | 56.76
4 | 620221 |  | Admission to sporting events | 37.01
4 | 620222 |  | Admission to sports events, out-of-town trips | 18.92
4 | 620310 |  | Fees for recreational lessons * | 74.57
4 | 620903 |  | Other entertainment services, out-of-town trips | 32.13
3 | TVAUDIO | PEG | Television, radios, sound equipment | 361.69
4 | TELEVSN |  | Televisions | 186.16
5 | 310110 |  | Black and white tv | 0.90
5 | 310120 |  | Color TV - console | 37.90
5 | 310130 |  | Color TV - portable, table model * | 46.70
5 | 310210 |  | VCR's and video disc players * | 25.53
5 | 310220 |  | Video cassettes, tapes, and discs * | 43.39
5 | 310230 |  | Video game hardware and software | 27.73
5 | 340610 |  | Repair of tv, radio, and sound equipment | 3.11
5 | 340902 |  | Rental of televisions | 0.90
4 | AUDIO |  | Radios, sound equipment | 175.53
5 | 310311 |  | Radios | 3.65
5 | 310312 |  | Phonographs | 0.00
5 | 310313 |  | Tape recorders and players | 7.66
5 | 310320 |  | Sound components and component systems * | 19.50
5 | 310331 |  | Miscellaneous sound equipment | 7.64
5 | 310332 |  | Sound equipment accessories | 11.33
5 | 310334 |  | Satellite dishes | 0.76
5 | 310341 |  | CD, tape, record and video mail order clubs | 9.07
5 | 310342 |  | Records, CDs, audio tapes, needles * | 41.52
5 | 340905 |  | Rental of VCR, radio, and sound equipment | 0.11
5 | 610130 |  | Musical instruments and accessories | 25.03
5 | 620904 |  | Rental and repair of musical instruments | 1.18
5 | 620912 |  | Rental of video cassettes, tapes & discs * | 48.09
3 | PETSPLAY | PEG | Pets, toys, and playground equipment | 436.27
4 | PETS |  | Pets | 290.79
5 | 610310 |  | Pet food * | 134.54
5 | 610320 |  | Pet purchase, supplies, medicine | 67.85
5 | 620410 |  | Pet services | 15.87
5 | 620420 |  | Vet services * | 72.53
4 | 610110 |  | Toys, games, hobbies, and tricycles * | 141.49
4 | 610120 |  | Playground equipment | 4.00
3 | ENTEROTH | PEG | Other entertainment supplies, equipment, and services | 646.69
4 | UNMTRBOT |  | Unmotored recreational vehicles | 104.54
5 | 600121 |  | Boat without motor and boat trailers | 34.98
5 | 600122 |  | Trailer and other attachable campers | 69.56
4 | PWRSPVEH |  | Motorized recreational vehicles | 156.56
5 | 600141 |  | Purchase of motorized camper | 32.89
5 | 600142 |  | Purchase of other vehicle * | 60.89
5 | 600132 |  | Purchase of boat with motor | 62.79
4 | RNTSPVEH |  | Rental of recreational vehicles | 1.60
5 | 520904 |  | Rental noncamper trailer | 0.00
5 | 520907 |  | Boat and trailer rental out-of-town trips | 0.04
5 | 620909 |  | Rental of campers on out-of-town trips | 0.18
5 | 620919 |  | Rental of other vehicles on out-of-town trips | 1.03
5 | 620906 |  | Rental of boat | 0.06
5 | 620921 |  | Rental of motorized camper | 0.00
5 | 620922 |  | Rental of other RV's | 0.29
4 | 600110 |  | Outboard motors | 2.57
4 | 520901 |  | Docking and landing fees | 4.92
4 | RECEQUIP |  | Sports, recreation and exercise equipment | 220.78
5 | 600210 |  | Athletic gear, game tables, exercise equip * | 93.79
5 | 600310 |  | Bicycles | 24.50
5 | 600410 |  | Camping equipment | 19.39
5 | 600420 |  | Hunting and fishing equipment | 34.74
5 | 600430 |  | Winter sports equipment | 6.76
5 | 600901 |  | Water sports equipment | 18.22
5 | 600902 |  | Other sports equipment | 20.61
5 | 620908 |  | Rental and repair of miscellaneous sports equipment | 2.77
4 | PHOTOEQ |  | Photographic equipment, supplies and services | 135.73
5 | 610210 |  | Film * | 29.15
5 | 610220 |  | Other photographic supplies | 3.11
5 | 620330 |  | Film processing * | 42.28
5 | 620905 |  | Repair and rental of photographic equipment | 0.18
5 | 610230 |  | Photographic equipment | 33.25
5 | 620320 |  | Photographer fees | 27.77
4 | 610901 |  | Fireworks | 3.25
4 | 610902 |  | Souvenirs | 5.16
4 | 610903 |  | Visual goods | 1.41
4 | 620913 |  | Pinball, electronic video games | 10.16
3 | PERSPROD | PEG | Personal care products | 362.62
4 | 640110 |  | Hair care products * | 74.26
4 | 640120 |  | Nonelectric articles for the hair | 8.90
4 | 640130 |  | Wigs and hairpieces | 1.36
4 | 640210 |  | Oral hygiene products, articles | 34.58
4 | 640220 |  | Shaving needs | 21.06
4 | 640310 |  | Cosmetics, perfume, bath preparation * | 171.16
4 | 640410 |  | Deodorants, feminine hygiene, misc. pers. care | 38.52
4 | 640420 |  | Electric personal care appliances | 12.79
3 | PERSSERV | PEG | Personal care services | 272.89
4 | 650310 |  | Personal care service * | 272.47
4 | 650900 |  | Repair of personal care appliances | 0.43
3 | READING | PEG | Reading | 163.94
4 | 590110 |  | Newspapers | 64.70
5 | 590111 |  | Newspaper subscriptions * | 49.33
5 | 590112 |  | Newspaper, non-subscriptions * | 15.36
4 | 590210 |  | Magazines | 31.86
5 | 590211 |  | Magazine subscriptions * | 20.28
5 | 590212 |  | Magazines, non-subscriptions * | 11.58
4 | 590900 |  | Newsletters | 0.00
4 | 590220 |  | Books thru book clubs | 9.41
4 | 590230 |  | Books not thru book clubs * | 57.67
4 | 660310 |  | Encyclopedia and other sets of reference books | 0.30
2 | EDU&COMM | MEG | Education and Communication | 2,023.31
3 | EDUCATN | PEG | Education | 81.28
4 | 670210 |  | Elementary and high school tuition * | 65.50
4 | 660210 |  | School books, supplies, for elem. and H.S. | 15.79
3 | COMMICAT | PEG | Communications | 1,726.83
4 | PHONE |  | Telephone services | 1,130.84
5 | 270101 |  | Telephone svcs in home city, excluding car * | 744.36
5 | 270102 |  | Telephone services for mobile car phones | 362.15
5 | 270103 |  | Pager service | 2.10
5 | 270104 |  | Phone cards | 22.24
4 | 690114 |  | Computer information services * | 143.34
4 | 270310 |  | Community antenna or cable TV * | 452.65
3 | COMP&SVC | PEG | Computers and Computer Services | 215.19
4 | 690113 |  | Repair of computer systems for nonbus. use | 3.75
4 | 690111 |  | Computers & hardware nonbusiness use * | 188.93
4 | 690112 |  | Computer software/accessories for nonbus. use | 22.50
2 | MISCMEG | MEG | Miscellaneous | 5,902.05
3 | TOBACCO | PEG | Tobacco products and smoking supplies | 231.85
4 | 630110 |  | Cigarettes * | 213.08
4 | 630210 |  | Other tobacco products | 17.35
4 | 630220 |  | Smoking accessories | 1.42
3 | MISC | PEG | Miscellaneous | 852.67
4 | 620925 |  | Miscellaneous fees | 3.31
4 | 620926 |  | Lotteries and pari-mutuel losses | 60.83
4 | 680110 |  | Legal fees * | 141.87
4 | 680140 |  | Funeral expenses * | 51.84
4 | 680210 |  | Safe deposit box rental | 4.18
4 | 680220 |  | Checking accounts, other bank service charges | 32.14
4 | 680901 |  | Cemetery lots, vaults, maintenance fees | 17.21
4 | 680902 |  | Accounting fees * | 49.48
4 | 680903 |  | Miscellaneous personal services | 51.76
4 | 710110 |  | Credit card interest and annual fees * | 341.82
4 | 900002 |  | Occupational expenses | 39.66
4 | 790600 |  | Expenses for other properties | 51.98
4 | 880210 |  | Interest paid, home equity line of credit | 0.00
4 | 620115 |  | Shopping club membership fees | 6.58
3 | INSPENSN | PEG | Personal insurance and pensions | 4,817.54
4 | LIFEINSR |  | Life and other personal insurance * | 465.85
5 | 700110 |  | Life, endowment, annuity, other personal ins. | 447.53
5 | 002120 |  | Other nonhealth insurance | 18.31
4 | PENSIONS |  | Pensions and Social Security | 4,351.69
5 | 800910 |  | Deductions for government retirement * | 103.66
5 | 800920 |  | Deductions for railroad retirement | 3.15
5 | 800931 |  | Deductions for private pensions | 401.77
5 | 800932 |  | Non-payroll deposit to retirement plans | 433.87
5 | 800940 |  | Deductions for Social Security | 3,409.24

Appendix 3.—COLA Survey Items and Descriptions

Adhesive Bandages. One box of 40 adhesive bandages. Assorted sizes. Clear or flexible okay to use. (Note: in Virginia, add tax to this item.) Use: Band-Aid Bandages Sheer.

Airfare Los Angeles (LAX). Lowest cost round trip ticket to Los Angeles, CA, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Use: Major carrier.

Airfare Miami (MIA). Lowest cost round trip ticket to Miami, FL, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Use: Major carrier.

Airfare Seattle (SEA). Lowest cost round trip ticket to Seattle, WA, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Use: Major carrier.

Airfare St. Louis (STL). Lowest cost round trip ticket to St. Louis, MO, 3-week advance reservation, departing and returning midweek and including Saturday night stay. Price non-refundable ticket. Disregard restrictions, super-saver fares, and special promotions. In reference area, price flights from BWI for Maryland, Reagan National for the District of Columbia, and Dulles for Virginia. Price all flights via Internet on same day during the DC area survey. Use: Major carrier.

Alternator (Ford). Price of a remanufactured 130-amp alternator for a 2001 Ford Explorer 4.0L Fuel Injected V6 Vin:E with A/C and automatic transmission to the consumer at a dealership. Report price net of core charge (i.e., price after core is returned). Report core charge in comments. If only new alternator available, report new price as match. If price varies whether dealer installs, assume dealer installs but do not price labor. (Use auto dealer worksheet.) Use: Dealer recommended brand.

Alternator (Honda). Price of a remanufactured alternator for a 2001 Honda Civic LX sedan, 4 door, 1.7 liter, fuel injected, L4, 4 cylinder, automatic transmission, to the consumer at a dealership. Report price net of core charge (i.e., price after core is returned). Report core charge in comments. If only new alternator available, report new price as match. If price varies whether dealer installs, assume dealer installs but do not price labor. (Use auto dealer worksheet.) Use: Dealer recommended brand.

Alternator (Nissan). Price of a remanufactured alternator for a 2001 Nissan Altima SE sedan, 4 door, automatic transmission. Report price net of core charge (i.e., price after core is returned). Report core charge in comments. If only new alternator available, report new price as match. If price varies whether dealer installs, assume dealer installs but do not price labor. (Use auto dealer worksheet.) Use: Dealer recommended brand.

Alternator (Toyota). Price of a remanufactured alternator for a 2001 Toyota Corolla LE sedan, 4 door, automatic transmission. Report price net of core charge (i.e., price after core is returned). Report core charge in comments. If only new alternator available, report new price as match. If price varies whether dealer installs, assume dealer installs but do not price labor. (Use auto dealer worksheet.) Use: Dealer recommended brand.

Antacid. Ninety-six-count size of extra strength tablets. Use: Tums EX 96 tablets.

Antibacterial Ointment. Half-ounce tube of antibacterial ointment. Do not price pain reliever ointment. Use: Neosporin Original 1/2 oz.

Antibacterial Ointment. One-ounce tube of antibacterial ointment. Do not price pain reliever ointment. Use: Neosporin Original 1 oz.

Apples. Price per pound, loose (not bagged) apples. If only bagged apples available, report bag weight. Use: Red Delicious.

Area Rug (Catalog). Approximately 8 foot by 11 foot oval braided rug, flat woven, 3-ply yarn, wool/nylon/rayon blend, with multi-colored accents. JC Penney catalog number: A751-0449. Include sales tax and shipping and handling. Use: American Traditions.

Artificial Sweetener. Fifty-count package of artificial sweetener. Use: Equal.

Aspirin. Fifty tablets of regular strength aspirin. Use: Bayer, Regular Strength.

Auto Finance Rate. Interest rate for a 4-year loan on a new car with a down payment of 20 percent. Assume the loan applicant is a current bank customer who will make payments by cash/check and not by automatic deduction from the account. Enter 7.65 percent as $7.650. If bank needs to know type of car, use specified Ford. Obtain interest rate and verify phone number. Rate will be checked again during the DC survey to see if it has changed. Use: Interest percentage rate.

Baby Food Formula. Thirty-two fluid-ounce bottle of infant formula with iron R-T-F. Look for blue print on label. There are at least four other types of Similac with different color print and different prices. Use: Similac Infant Formula with Iron R-T-F.

Baby Food. Four-ounce jar strained vegetables or fruit. Use: Gerber 2nd.

Babysitter. Minimum hourly wage appropriate to area. Use:nnnnnn Government wage data.

Baking Dish 8 × 8. Glass baking dish, 8 inch square glass, clear or tinted. Exclude baking dish with cover or lid. Use: Anchor Hocking, 8 × 8.

Baking Dish 9 × 13. Glass baking dish, 9 × 13 × 2 inch glass, clear or tinted. Exclude baking dish with cover or lid. Use: Pyrex, 9 × 13, 3 quart.

Bananas. Price per pound of bananas. If sold by bunch, report price and weight of average sized bunch. Use: Available brand.

Bath Towel (Bed Bath & Beyond). Bath towel, approximately 30 inch × 54 inch, 100 percent pima cotton with pima cotton loops. Use: Wamsutta, Regency Pima.

Bath Towel (K-Mart). Bath towel, approximately 66 inch × 35 inch wide, 100 percent cotton, medium weight. Side hem is woven selvage. Bottom hem may be folded. Use: Martha Stewart 3 Star Big Towel.

Bath Towel (Wal-Mart). Approximately 56 inch × 30 inch wide, 100 percent cotton, medium weight. Side hem is woven selvage. Bottom hem may be folded. Price Springmaid Pima. Use: Springmaid.

Beer at Home (Bottles). Six-pack of 12 ounce bottles of Budweiser. Do not price refrigerated beer unless that is the only type available. Use: Budweiser.

Beer at Home (Cans). Six-pack of 12 ounce cans of Budweiser. Do not price refrigerated beer unless that is the only type available. Use: Budweiser.

Beer Away. All restaurant types. One glass of Budweiser beer. Check sales tax and include in price. Use: Budweiser.

Board Game. Price standard edition, not deluxe. Use: Sorry!

Book, Paperback. Store price (not publishers list price unless that is the store price) for top-selling fiction, paperback book. During the DC area survey price via Amazon.com and include any additional shipping cost to the Caribbean. Use: The Last Juror, John Grisham, The Calhouns, Nora Roberts.

Bowling. One game of open (or non-league) 10-pin bowling on a weekday (Monday-Friday) between the hours of 10 a.m. to 5 p.m. Exclude shoe rental. If priced by the hour, report hourly rate divided by 5 (i.e., estimated number of games per hour) and note hourly rate in comments. Do not price duck-pin bowling. Use: Bowling.

Boys Jeans. Relaxed fit, size range 9 to 14, pre-washed jeans, not bleached, stone-washed or designer jeans. Use: Levis 550 Relaxed Fit.

Boys Polo Shirt. Knit polo-type short sleeve shirt with collar, solid color, Cotton/polyester, size range 8 to 14. Use: Ralph Lauren (Macys), Polo Club (JC Penney/Sears).

Boys T-Shirt. Screen-printed t-shirt for boys ages 8 thru 10 (sizes 7 to 14). Pullover with crew neck, short sleeves, cotton or polyester/cotton blend. Do not price team logo shirts. Use: Green Dog Blues (Macys), Canyon River Blues (JC Penney/Sears), Osh Gosh or equivalent.

Bread, Wheat, Butter Top. Loaf of sliced wheat bread, 20 to 24 ounces. Holsum Integral is an equivalent brand. Do not price store brand. Use: Home Pride.

Bread, White. Loaf of sliced white bread, 22 to 24 ounces. Wonder is an equivalent brand. Do not price store brand. Use: Holsum.

Breakfast Full Service. Two to four strips of bacon or sausages, two eggs, toast, hash browns, coffee, and small juice. Check sales tax and include in price. At Denny's, price the Two-Egg Breakfast. At IHOP, price the Quick Two-Egg Breakfast. Use: Bacon and eggs.

Cable TV Service. One month of cable service. Include converter and universal remote fees. Do not price value packages or premium channels; i.e., Showtime, HBO, Cinemax. Do not report hook-up charges. Itemize taxes and fees as percent rates or amounts and add to price. Note in comments whether digital or analog service. Use: Local provider.

Camera Film. Four-pack, 35 millimeter, 24 exposure, 400 ASA (speed). Use: Kodak Max 400.

Candy Bar. One regular size candy bar, weight approximately 1.55 to 2.13 ounces. Do not price king-size or multi-pack. Use: Snickers.

Canned Chopped Ham. Twelve-ounce can of processed luncheon meat. Do not price turkey, light, or smoked varieties. Use: SPAM.

Canned Green Beans. Fourteen to 15-ounce can of plain-cut green beans. Use: Del Monte.

Canned Ham. Three-pound canned ham. Use: Hormel, Black Label.

Canned Peaches. Fifteen to 16-ounce can of sliced peaches. Use: Del Monte.

Canned Soup. Regular size (approximately 10.7 ounces) can of condensed soup. Not hearty, reduced-fat or salt-free varieties. Use: Campbell's Chicken Noodle Soup.

Canned Tuna. Chunk light tuna, packed in spring water (approximately 6 ounces). Do not price fancy style or albacore. Use: Star Kist.

Cellular Phone 500 Minute Plan. Cellular phone service with 500 anytime minutes per month. Price via Internet all areas at the same time during the DC area survey. Call for fee information. Itemize taxes and fees and add to price. Use: Major provider.

Cellular Phone 600 Minute Plan. Cellular phone service with 600 anytime minutes per month. Price via Internet all areas at the same time during the DC area survey. Call for fee information. Itemize taxes and fees and add to price. Use: Major provider.

Cereal. Raisin bran cereal, approximately 20-ounce box. Use: Kellogg's Raisin Bran.

Charcoal Grill. Charcoal grill, heavy gauge, porcelain-enameled, steel lid, approximately 22.5 inches diameter. Use: Weber 1 Touch Silver 22½- inch, model 741001.

Cheese. Twelve-ounce package cheese, 16 slices. Okay to price yellow or white, but do not price reduced-fat or fat-free varieties. Use: Kraft Singles, American.

Chicken Breast, Skinless, Boneless. Price per pound of USDA grade boneless, skinless, fresh chicken breasts. Price store brand if available, otherwise record brand. Use: Store brand.

Chicken, Whole Fryer, Fresh. Price per pound of USDA graded, whole fryer, fresh chicken. If multiple brands available, match the lowest priced item and note in comments. If only frozen chicken available, price as substitute. Use: Available brand.

Chuck Roast, Bone-in. Price per pound, fresh (not frozen or previously frozen) bone-in beef chuck pot roast. Price USDA Select or un-graded if available. If not available, note USDA grade in comments. Use average size package; i.e., not family-pack, value-pack, super-saver pack, or equivalent. If multiple brands available (e.g., Angus), match the lowest priced item and note in comments. Use: Available brand.

Cigarettes. One pack filter kings. Include State and/or Federal tobacco tax in price if normally part of the price. Report sales tax in the same manner as any other taxable item. Use: Marlboro.

Claw Hammer. Twenty-ounce, straight claw hammer with shock reduction grip. Head and handle forged in one piece. Use: Estwing (E3-20S).

Coffee, Ground. Thirteen-ounce can. Do not price decaffeinated or special roasts. Use: Maxwell House, Original.

Compact Disc. Current best-selling CD. Do not price double CDs. Use: Breakaway, Kelly Clarkson, Genius Loves Company, Ray Charles.

Contact Lenses. One box of disposable contact lenses, three pairs in the box. A pair lasts 2 weeks. Use: Bausch & Lomb, Acuvue II.

Cookies. Approximately 16-ounce package of chocolate chip cookies. Use: Nabisco Chips Ahoy.

Cooking Oil. Forty-eight fluid ounce plastic bottle of vegetable oil. Use: Crisco.

Cordless Phone 2.4 GHz. Cordless phone with Caller ID and digital answering machine. Use: GE 27998GE6 (Wal-Mart), AT&T 1465ESP (K-Mart).

Cordless Phone 900 MHz (K-Mart). Cordless phone, 900 MHz. Use: Uniden EZi996 (Wal-Mart), GE 26998GE1 (K-Mart).

Credit Card Gold Interest & Annual Fee. Obtain credit card interest rate of a gold card and apply it to the national average balance ($8,562) plus any annual fees charged by the bank. Price standard plan without airline miles or other special offers. (Use bank worksheet). Use: Gold VISA/MasterCard.

Cremation. Direct cremation. Includes removal of remains, local transportation to crematory, necessary body care and minimal services of the staff. Include crematory fee. Do not include price of urn. Ask if crematory fee, Medical Examiner fee, and minimum basic container are included. Ask if anything other than basic service, such as a funeral service, is included. Use: Cremation.

Cured Ham, Boneless. Price per pound of a boneless cured ham. If multiple brands available, match the lowest priced item and note in comments. Use: Hormel, Cure 81.

Curved Claw Hammer. Sixteen-ounce, curved claw hammer with jacketed graphite handle and nylon vinyl grip. Use: Stanley (51-505).

Day Care. One month of day care for a 3-year-old child, 5 days a week, about 10 hours per day. If monthly rate is not available, (1) obtain weekly rate, (2) record rate in the comments section, and (3) multiply weekly rate by 4.33 to obtain monthly rate. Use: Day care.

Dental Clean and Check-Up. Current adult patient charge for routine exam, including two bite-wing x-rays and cleaning of teeth with light scaling and polishing. No special treatment of gums or teeth. Do not price an initial visit or specialist or oral surgeon. (Dental codes: 0120, 0272, 1110.) Use: Dentist.

Dental Crown. Cost of a full crown on a lower molar, porcelain fused to a high noble metal. Include price of preparation or restoration of tooth to accept crown. Price for an adult. (Dental code: 2750.) Use: Dentist.

Dental Filling. Lower molar, two surfaces resin-based composite filling. Price for an adult. (Dental code: 2392.) Use: Dentist.

Dining Table Set (Catalog). Solid hardwood butcher-block top dining table with six coordinating slat-back chairs, plus two bonus side chairs free. Table measures 42 inches by 60 inches. JC Penney catalog number: A796-1323. Include sales tax and shipping and handling. Use: 5-piece casual dining set.

Dinner Full Service—Filet Mignon. Extra fine dining, fine dining, and Outback-type restaurants. Filet mignon (6 to 10 ounce) with one or two small side dishes (e.g., rice or potato), salad and coffee. Do not include tip. Check sales tax and include in price. Use: Filet mignon.

Dinner Full Service—Steak, Large. Extra fine dining, fine dining, and Outback-type restaurants. NY strip steak (10 to 16 ounce) with one or two small side dishes (e.g., rice or potato), salad and coffee. Do not include tip. Check sales tax and include in price. Use: Steak dinner, large.

Dinner Full Service—Steak, Medium. Casual and pancake house restaurants. Approximately 8 to 12 ounce steak, with one or two small side dishes (e.g., rice or potato), side salad or salad bar, and coffee. Meal should not include dessert. If 8 to 12 ounce unavailable, price closest size and note in comments. Check sales tax and include in price. Use: Steak dinner, medium.

Dish Set. Patterned tableware, 16 to 20 piece set. Use: Corelle Chutney 20 piece set (Wal-Mart), Martha Stewart Everyday 16 piece striped set (K-Mart).

Disposable Diapers. Grocery and discount stores. Pampers: Forty-eight count package, Stage 2 (child 12 to 18 pounds), Jumbo disposable diapers with koala fit grips. If Stage 2 is not available, price a different stage Pampers Jumbo diaper, report as match, and note stage in comments. Huggies: Forty-eight count package, Step 2 (child 12 to 18 pounds), Jumbo, Ultratrim disposable diapers with stretch waist. If Step 2 is not available, price a different step Huggies Jumbo diaper, report as match, and note step in comments. Use: Pampers, Baby Dry, Jumbo, Stage 2; Huggies, Ultratrim, Jumbo, Step 2.

Doctor Office Visit. Typical fee for office visit for an adult when medical advice or simple treatment is needed. Do not price initial visit. Exclude regular physical examination, injections, medications, or lab tests. Use general practitioner not pediatrician or other specialist. Medical code: 99213. Use: Doctor.

Drill, Cord. Variable speed, ⅜-inch electric drill, keyless chuck, approximately 5 amp. Use: Black & Decker (DR220K).

Drill, Cordless. Variable speed, reversible, ⅜-inch keyless chuck, 14.4 volt, electric drill with fast recharge, with battery charger. Use: DeWalt (DC728KA).

Dry Clean Man's Suit. Dry cleaning of a two-piece man's suit of typical fabric. Do not price for silk, suede or other unusual materials. Use: Dry cleaning.

DVD Movie. Current best-selling DVD movie. Use: Friday Night Lights, The Village (K-Mart); Ray, Mulan II (Wal-Mart).

DVD Player. Progressive scan one-disc DVD player with remote control. Note: Model numbers may vary slightly. Use: Panasonic DVD-S27 (K-Mart), RCA DRC233N (Wal-Mart), Sony DVPNS575P/S.

Education, Private K-12. Cost of tuition and all access fees, materials fees, books, and registration fees that are not included in tuition. If price varies by grade, record in comments price for each grade. Note any annual, recurring fees; i.e., registration, computer, activity, etc. If pricing at church-affiliated schools, note any rate differences for church members versus others. Use: Private School K-12.

Eggs (White, Large). One dozen large white Grade A eggs. If multiple brands available, match the lowest priced item and note in comments. Use: Available brand.

Electric Bill. Total utility rates for electricity from utility function model, including all taxes and surcharges, etc. Also try to obtain a bill from a local resident for comparison purposes. Obtain rates for the last 12 months to include any seasonal rate changes and energy charges, which vary monthly. Use: Local provider.

Electric Vacuum. Electric vacuum cleaner with 2-amp motor. Use: K-Mart: Eureka Boss Superbroom (164D6); Wal-Mart: Eureka Boss SuperLite (402A).

Eye Round Roast, Boneless. Price per pound, fresh (not frozen or previously frozen) boneless eye round roast. Price USDA Select or un-graded if available. If not available, note USDA grade in comments. Use average size package, i.e., not family-pack, value-pack, super-saver pack, or equivalent. If multiple brands available (e.g., Angus), match the lowest priced item and note in comments. Use: Available brand.

Fast Food Breakfast. Ham or Bacon, Egg & Cheese Bagel value meal, includes hash browns and coffee. Check sales tax and include in price. Use: Ham or Bacon, Egg & Cheese Bagel (medium).

Fast Food Dinner Burger. Hamburger, fries (or other side), and soft drink. Check sales tax and include in price. Use: Wendy's: Classic Single Combo (medium); McDonald's: Big Mac Value Meal (medium).

Fast Food Dinner Pizza. Medium cheese pizza (without extra cheese) with salad and small soft drink. Check sales tax and include in price. Use: Medium cheese pizza.

Fast Food Lunch Burger. Hamburger, fries (or other side), and soft drink. Check sales tax and include in price. Use: Wendy's: Classic Single Combo (medium); McDonald's: Big Mac Value Meal (medium).

Fast Food Lunch Pizza. Personal size cheese pizza (without extra cheese) or one slice of cheese pizza. Include price of a small soft drink. Do not include price of salad or other side dishes. Check sales tax and include in price. Use: Cheese pizza.

FEGLI (Life Insurance). Federal life insurance. This item is not surveyed locally because it is constant across all areas. Use: FEGLI.

FEHB Insurance. Self only and family. This item is not surveyed locally. OPM estimates insurance prices from employee premiums and enrollment data from Central Personnel Data File. Use: FEHB.

FERS/CSRS Contributions. Federal retirement contributions. This item is not surveyed locally because it is constant across all areas. Use: FERS/CSRS.

Filing Cabinet. Two-drawer file cabinet. One drawer has lock. File drawers accommodate hanging files. Use: K-Mart: Home Essentials; Wal-Mart: Space Solutions Ready File (10002).

Film Processing 1 Hour. One-hour color film processing for 24 exposure, 35 mm prints. Use: K-Mart: In-store processing, 4 × 6 double prints; Wal-Mart: In-store processing, 3 × 5 or 4 × 6 single prints.

Ford Explorer 4WD. Purchase price of a 2005 Ford Explorer XLT, 4-wheel drive, 4 door, 4.6 liter, 8 cylinder, 5-speed automatic overdrive transmission, model number U73/225A. Please note the price of any special option packages. (Use auto dealer worksheet.) Use: 2005 Ford Explorer XLT.

Ford License, Registration, Taxes, and Inspection. License, registration, periodic taxes (e.g., road or personal property tax, but NOT one-time taxes such as sales tax), and inspection (e.g., safety and emissions) on the Ford specified for survey. (Use auto dealer worksheet.) Use: Specified Ford.

Fresh Mahi-Mahi (Dorado). Price per pound of fresh Mahi-Mahi fillet. Do not price previously frozen (PF) or specially prepared varieties. Do not price family-pack, value-pack, super-save pack, or equivalent. If multiple brands available, match the lowest priced item and note in comments. Use: Available brand.

Fresh Salmon. Price per pound of Atlantic farm-raised salmon skinless filet, fresh. Use: Available brand Atlantic farm-raised.

Frozen Fish Fillet. Price of one box of frozen ocean whitefish crispy battered fillets. Use: Gorton's Crispy Battered Fillets (10 count), Gorton's Beer Batter Fish Fillets (10 count), Mrs. Paul's Crispy Battered Fillets (6 count).

Frozen Meal. Price of frozen dinner. Use: Healthy Choice Chicken Teriyaki (11 ounce), Lean Cuisine Chicken Glazed (8.5 ounce).

Frozen Orange Juice. Twelve-fluid-ounce can of orange juice concentrate (makes 48 fluid ounces). Do not price calcium fortified, pulp-free, country style, etc. Use: Minute Maid.

Frozen Peas. Nine-ounce package of frozen petite or baby peas, no sauce or onions. Use: Green Giant Baby Sweet Peas.

Frozen Waffles. Ten-count box of frozen waffles per package. Do not price fat-free or whole wheat varieties. Use: Eggo (10 count).

Fruit Drink. Ten pack of fruit drink, not juice, any flavor. Capri Sun 10 count is an equivalent brand. Use: Hi-C fruit punch drink 10-pack.

Fruit Juice. Sixty-four-ounce bottle of cranberry juice. Use: Ocean Spray Cranberry Juice.

Gas. Price per gallon for self-service unleaded regular gasoline. Use: Major brand.

Gelatin. Three-ounce box gelatin dessert. Use: JELL-O.

General Admission Evening Film. Adult price for evening showing, current release (currently advertised on television). Report weekend evening price if different from weekday. Use: Movie.

Girls Dress. Girls print chiffon dress. Simple lines, short sleeves. Machine washable. Use: JC Penney/Sears: Store brand; Macys: Tommy Hilfiger.

Girls Dress (Catalog). Floral design. Ruffle sleeves and hemline. Polyester. Machine wash, line dry. Include sales tax and shipping and handling. Use: JC Penney Hype Spring Fantasy Dress (catalog number A380-9913).

Girls Jeans. Slim fit in the seat and thighs with flared legs and traditional 5-pocket styling, for girls ages 8 to 10 (size 7 to 14). Use: JC Penney/Sears: Levis 517; Macys: Ralph Lauren.

Girls Polo Type Top. Girls polo cotton blend, striped or solid pattern. Price sizes 7 to14 or S, M, and L in girls sizes. Use: JC Penney/Sears: Lands End; Macys: Ralph Lauren.

Gold Ball Earrings(Jewelry Store): One pair 6mm, 14K hollow, gold ball earrings for pierced ears. If not available, but 4, 5, 7 or 8mm are available, record each separately as a substitute. Do not price gold filled. Use: Store brand.

Golf, Resort. Eighteen holes of golf on weekend with cart, tee-time approximately 2 p.m. Do not price par 3 courses. If only nine holes available, double price. If only daily rate available (unlimited number of holes), report the Saturday or Sunday rate. Price local resident fee (not hotel guest fee). Price outside of local jurisdiction if necessary. Use: Golf, resort.

Ground Beef. Price per pound, fresh (not frozen or previously frozen) ground beef or ground chuck. Use average size package; i.e., not family-pack, value-pack, super-saver pack, or equivalent. If multiple brands available (e.g., Angus), match the lowest priced item and note in comments. Use: Available brand, 7 percent fat and 20 percent fat.

Hamburger Buns. Eight-count package of sliced enriched white hamburger buns. Holsum is an equivalent brand. Do not price store brand. Use: Wonder.

Hand-Held Vacuum. Cordless hand-held 9.6 volt cyclonic vacuum with crevice tool and upholstery brush. Use: Black and Decker 9.6 volt Cyclonic DustBuster.

Health Club Membership. One-year regular, individual membership for existing member. Do not price special offers. If no yearly rate, price month and prorate. Service must include free weights, cardiovascular equipment, and aerobic classes. Note if pool, tennis, racquetball, or other service included. Use: Gold's Gym type.

Honda Civic. Purchase price of a 2005 Honda Civic LX sedan, 4 door, 1.7 liter, 4 cylinder, automatic transmission without side air bags, # ES1655PW. Please note the price of any special option packages. (Use auto dealer worksheet.) Use: 2005 Honda Civic LX sedan.

Honda License, Registration, Taxes, and Inspection. License, registration, periodic taxes (e.g., road or personal property tax, but NOT one-time taxes such as sales tax), and inspection (e.g., safety and emissions) on the Honda specified for survey. (Use auto dealer worksheet.) Use: Specified Honda.

Hospital Room. Daily charge for private and semi-private rooms. Include food and routine care. Exclude cost of operating room, surgery, medicine, lab fees, etc. Do not price specialty rooms; e.g., those in cardiac care units. Use: Private and semi-private room.

Hot Dogs, Beef Franks. Sixteen-ounce package, 10 count, USDA graded, all beef franks. Do not price chicken, turkey, extra lean, or fat free frankfurters. Use: Oscar Mayer Beef Franks.

Housekeeping (Hourly Wage). Local hourly wage for a housekeeper or janitor. BLS code 37-2012. Try to obtain from the local department of labor. Use: Government Wage Data.

Ice Cream Cup. One scoop, vanilla ice cream in a cup. Do not price frozen yogurt or soft-serve ice cream. Use: Baskin Robbins type and Ben & Jerry's type.

Ice Cream. Fifty-six-ounce (1.75 quart) vanilla flavored ice cream. Do not price ice milk, fat free, or frozen yogurt. Use: Edys Grand Ice Cream.

Infants Sleeper. One-piece sleeping garment with legs, covering the body including the feet. Stretch cotton/polyester terry. Washable. Can be packaged or hanging. Size: Newborn. Use: Carters Starters.

Insurance, Ford and Honda. Annual premium for Ford and Honda surveyed. Thirty-five-year-old married male, currently insured, no accidents/violations. Commute is 15 miles one-way/day, annual 15,000 miles. Bodily injury 100/300; property damage 25; medical 15 or personal injury protection 50; uninsured motorist 100/300; comprehensive deductible 100; and collision deductible 250. If this level of coverage is not available, price the policy with the closest coverage. Ford car value: $32,045; Honda car value: $16,095. Use: National company, if available.

Insurance, Ford and Honda (VI and DC Only). Annual minimum premium for Ford and Honda surveyed. Thirty-five-year-old married male, currently insured, no accidents/violations. Commute is 15 miles one-way/day, annual 15,000 miles. Bodily injury 25/30; property damage 25; medical 5 or personal injury protection 25, uninsured motorist 25/30; comprehensive deductible 250; and collision deductible 500. If this level of coverage is not available, price the policy with the closest coverage. Ford car value: $32,045; Honda car value: $16,095. Use: National company, if available.

Internet Service. Monthly charge for unlimited Internet access. Itemize taxes and fees and add to price. Use: Local cable provider and local DSL provider.

Jelly. Eighteen-ounce jar of grape jam or jelly. Use: Smuckers Concord Grape.

Jet Ski. 2005 Yamaha jet ski WaveRunner XLT1200, 155 hp, 3 clylinder, 3 seater. (If only Sea-Doo GTI LE RFI is available, record as a substitute). Use: Yamaha WaveRunner XLT1200.

Jewelry Earring Set. A box set of fake diamond earrings and necklace. Use: JC Penney/Sears: Store brand; Macys: Sterling Silver Collection.

Ketchup. Twenty-four ounce plastic squeeze bottle. Use: Heinz.

Kitchen Range (Electric coil). Thirty-inch, free-standing electric range with coil burners and standard size (small) glass window on oven door. Model numbers may vary slightly by dealer. Use: Kenmore 91032 and General Electric JBP25DJWH.

Kitchen Range (Gas). Thirty-inch, free-standing, self-cleaning oven. Large window. Four burners, stainless steel. Use: General Electric JGBP33SEHSS.

Kitchen Range (Smooth Top). Thirty-inch, free-standing, smooth-top, self-cleaning, with stainless steel front, large window. Four radiant burners and a warmer. Use: General Electric JBP80SHSS.

Laptop Computer. Laptop with Intel Pentium 4, 512MB DDR, DVD-ROM/CD-RW, XGA, Windows XP. (Include tax and shipping and handling, if applicable.) Use: HP/Compaq Presario RS 3320US (DT 3.0HT, 60GB hard drive) and Toshiba Satellite P30 (3.2GHz, 80GB hard drive).

Laundry Soap. One hundred fluid ounces of liquid household laundry detergent. Use: Wisk.

Lawn Care (Hourly Wage). Local wage for gardener/grounds keeper. BLS code 37-3011. Try to obtain from the local department of labor. Use: Government Wage Data.

Lawn Mower, Self-Propelled. Twenty-one to 22 inch, self-propelled approximately 6.5 horsepower gas lawn mower. Use: Craftsman 37482 rear bag mower and Toro 20012 high-wheel recycler.

Lawn Trimmer, Gas. Gas powered, approximately 18-inch wide cut. Straight or curved shaft okay. Bump or automatic line feed. Note: Model numbers may vary slightly by dealer. Use: Homelite UT20778 (25cc 2-cycle engine) and Craftsman 79612 (34cc 4-cycle engine).

LD Call Chicago. Cost of a 10-minute call using regional carrier, received on a weekday in Chicago at 8 p.m. (Chicago time); direct dial. Itemize taxes and fees and add to price. Use: AT&T/Sprint.

LD Call Los Angeles. Cost of a 10-minute call using regional carrier, received on a weekday in Los Angeles at 8 p.m. (LA time); direct dial. Itemize taxes and fees and add to price. Use: AT&T/Sprint.

LD Call New York. Cost of a 10-minute call using regional carrier, received on a weekday in New York at 8 p.m. (NY time); direct dial. Itemize taxes and fees and add to price. Use: AT&T/Sprint.

Lettuce, Iceberg. One head of iceberg lettuce. Use: Available brand.

Lettuce, Romaine. Price of 1 pound of romaine lettuce, not hearts. If only sold by each, note an average weight in comments. Use: Available brand.

Lipstick. One tube, any color. Use: Maybelline Moisture Whip and Revlon Super Lustrous.

Living Room Chair (Catalog). Channel back rocker recliner. Lumbar area offers heat and massage. Arm lifts to access storage compartment and cup holder. Reflex foam seat cushion. Fabrics are stain-resistant. Microfiber, polyester. Chenille, olefin/acrylic. Velvet, polyester/olefin. Include sales tax and shipping and handling. Use: JC Penney Channel Back Rocker Recliner, catalog number A792-9654.

Lunch, Full Service. Pancake house and casual restaurants. Cheeseburger platter with fries and small soft drink. Check sales tax and include in price. Use: Cheeseburger platter.

Lunch Meat, All Beef. Eight-ounce package, all-beef variety, sliced bologna. Use: Oscar Mayer Beef Bologna.

Magazine Subscription. One-year home-delivery price of a magazine. This is priced during the DC area survey via the Internet. Include any special mailing cost to the Caribbean. Use: Time.com.

Magazine. Store price (not publisher list price unless that is the store price) for a single copy. Use: InStyle.

Man's Athletic Shoe (Shoe Store). Man's walking shoe, soft leather upper. Full-length Phylon midsole with low-pressure Air-Sole units in heel and forefoot. Composition rubber outsole. Use: Reebok Classic.

Man's Boat Shoe. Full leather, slip-on boat shoe. Use: Timberland.

Man's Dress Shirt. White or solid color long sleeve button cuff dress shirt, 100 percent cotton or cotton blend. Use: Calvin Klein Satin Poplin; JC Penney/Sears: Dockers; Macys: Polo Ralph Lauren.

Man's Dress Shoe, Leather Sole. Full leather lining, oak tanned/buffed leather outsoles, polished leather uppers, steel shank. Use: Bostonian Akron.

Man's Dress Shoe, Rubber Sole. Leather oxford with cushioned insole and heel pad. Shoe has combination leather and rubber sole. Use: Rockport.

Man's Jacket (Catalog). Man's lightweight jacket with stand-up collar, fabric strap, zip front, one chest pocket, and two front slant pockets. Rib-knit cuffs. Cotton/polyester with nylon lining, washable. Price regular size. Include sales tax and shipping and handling. Use: JC Penney Latch Collar Jacket-Regular, catalog number A518-5206.

Man's Jeans. Relaxed-fit jeans, five pocket, zip-fly, cotton, straight leg. Use: Tommy Hilfiger Relaxed-Fit; JC Penney/Sears/Macys: Levis Red Tab 550.

Man's Khaki Pants. Man's casual khakis, any color, relaxed fit or classic fit, flat-front or pleated, cotton twill. Use: Kenneth Cole Slubbed Sateen; JC Penney/Sears/Macys: Dockers.

Man's Leather Dress Shoe (catalog). Full-grain leather captoe oxford, leather upper, leather outsole, with leather lining and a comfort heel cup. Slip-resistant sole. Include sales tax and shipping and handling. Use: Florsheim Lexington Captoe, JC Penney catalog number A014-9043.

Man's Regular Haircut. Regular haircut for short to medium length hair. Use: Hair salon cut.

Man's Sport Watch. Water-resistant strap, digital compass, 100-hour chronograph, INDIGLO night-light, water-resistant up to 100 meters, digital display, alarm, countdown timer, strap/watch colors may vary. Different models represent different color of face or strap. If available, also price same watch without digital compass as a substitute. Use: Timex Expedition Digital Compass.

Man's Suit (Catalog). Six-button, double-breasted worsted wool suit coat, flap pockets, chest pocket, dry clean only. Regular size with full acetate lining. Price coat as a separate, not combo with trousers. Include sales tax and shipping and handling. Use: Stafford Suit Coat, JC Penney catalog number A957-0249.

Man's Undershirt. One package of three men's T-shirts, white, 100 percent cotton undershirts with short sleeves, regular size. Use: Tommy Hilfiger Crewneck; JC Penney/Sears: Hanes V-neck; Macys: Jockey V-neck.

Man's Wedding Band. Men's 14K gold 4mm plain wedding band, size 10 or less, non-comfort fit. Do not price gold filled rings. Use: Store brand.

Margarine. One pound (four sticks) of regular margarine. Do not price reduced fat variety. Use: Parkay.

Mattress and Foundation (Catalog). Full-size mattress and foundation. Nine layers of soft materials. Continuous support innerspring. Triple beam foundation. Approximate mattress thickness: 12 inches. Mattress cover of cotton/polyester damask in bridal white. Foundations are unitized steel with wood frames. Include sales tax and shipping and handling. Use: Serta, Lindsey Castle Pillowtop, JC Penney catalog numbers: A799-7662 and A799-7663.

Mayonnaise. Thirty-two-ounce jar of mayonnaise. Do not price light or fat free. Use: Hellmann's Real Mayonnaise.

Measuring Tape. Twenty-five-foot tape measure with blade armor coating. Use: Stanley 25 Ft. FatMax (33-725H).

Milk, Low Fat. One-half gallon, 1.5 or 2 percent milk. If multiple brands available, match the lowest priced item and note in comments. Use: Available brand.

Mover Driver (Hourly Wage). Local government hourly rate for a light truck driver. BLS code 53-3033. Try to obtain from the local department of labor. Use: Government wage data.

Moving (Hourly Wage). Local hourly wage for a mover/material handler. BLS code 53-7062. Try to obtain from the local department of labor. Use: Government wage data.

Newspaper Subscription, Local. One-year of home delivery of the largest selling daily local paper (including Sunday edition) distributed in the area. Do not include tip. Use: Major local newspaper.

Newspaper, Newsstand, Local. Price of a local newspaper at a newsstand (in box), weekday issue. If a newsstand box is not available, price at a newsstand and indicate whether price includes tax. Use: Newspaper, newsstand, local.

Newspaper, Newsstand, NY Times. Price of the New York Times newspaper at a newsstand (in box), weekday issue. If a newsstand box is not available, price at a newsstand and indicate whether price includes tax. Use: New York Times, weekday.

Nissan License, Registration, Taxes, and Inspection. License, registration, periodic taxes (e.g., road or personal property tax, but NOT one-time taxes such as sales tax), and inspection (e.g., safety and emissions) on the Nissan specified for survey. Use: Specified Nissan.

Nissan Altima. Purchase price of a 2005 Nissan Altima, 3.5 SE 4-door sedan with 5-speed automatic transmission, model number 05915. Please note the price of any special option packages. (Use auto dealer worksheet.) Use: 2005 Nissan Altima 3.5 SE (for Puerto Rico and DC area only).

Non-Aspirin Pain Reliever (50 count). Fifty geltabs of acetaminophen 500 mg. Use: Tylenol Extra Strength Geltabs (50 count).

Non-Aspirin Pain Reliever (100 count). One hundred geltabs of acetaminophen 500 mg. Use: Tylenol Extra Strength Geltabs (100 count).

Oranges. Price per pound of loose, large, Navel oranges. If only bagged oranges are available, also report the weight of the bag. Use: Available brand.

Oregano Leaves. Three-quarter-ounce bottle of oregano leaves. Use: McCormick.

Parcel Post. Cost to mail a 5-pound package to Chicago, Los Angeles, and New York using regular mail delivery service. Use: United States Postal Service.

Pen. Ten-pack round stick medium point pen. Do not price crystal or clear type pens. Use: BIC and Paper Mate.

Pet Food. Twenty-two-pound bag of adult dry dog food. Use: Pedigree Complete Nutrition.

Piano Lessons. Monthly fee for half-hour beginner private piano lessons for an adult, one lesson per week. Price through a music studio if possible. If only per-lesson price is available, prorate using ½-hour lesson price times 52 divided by 12. If only 1-hour lesson is available, prorate accordingly. Use: Piano lessons.

Plant Food. Twenty-four-ounce container of granulated all purpose plant food. Use: Miracle Gro.

Pork Chops Center Cut, Boneless. Price per pound for fresh (not frozen or previously frozen) pork chops, center cut, boneless, loin chops. Use average size package, i.e., not family-pack, value-pack, super-saver pack, or equivalent. If multiple brands available, match the lowest priced brand and note in comments. Use: Available brand.

Portable CD Player. Portable ATRAC3plus, ATRAC3, MP3 and CD-R/RW, with headphones, anti-skip technology, 2-line dot matrix display, 85-hour battery life. Note: Color may vary. Use: Sony Walkman (D-NE300).

Potato Chips. One, 5- to 6-ounce container of regular potato chips. Do not price fat free. Use: Pringles.

Potatoes. Price per pound of loose potatoes. If only bag potatoes available, report smallest size bag as substitute and note weight. Use: Russet or Idaho Baking.

Prescription Drug 1. Nexium, 30 capsules, 40 mg. Do not price generic. Use: Nexium (40 mg).

Prescription Drug 2. Generic Amoxicil (i.e., Amoxicillin), 30 capsules, 250 mg. Use: Amoxicillin.

Printer, Color, Photo. Color inkjet all-in-one printer, flatbed scanner, copier with media slots. Prints up to 4800 dpi., 12 ppm color, 17 ppm black and white, 8 MB memory. USB cable is not included. (Include tax and shipping and handling, if applicable.) Use: HP PSC 1350 All-In-One.

Red Roses. One-dozen long stemmed, fresh-cut red roses wrapped in floral paper, purchased in store, not delivered. Do not price boxed or roses arranged in vase. Also price roses, each, and record in comments. Use: Dozen red roses.

Refrigerator (Side-by-Side). Side-by-side refrigerator, approximately 25 cubic feet, with chilled water, cubed ice or crushed ice dispenser (but no dispenser lock). Up-front manual temperature controls. Note: Model usually carried by Home Depot and Sears. Use: General Electric GSS25JFPWW.

Refrigerator (Top Mount). Top mount refrigerator with reversible doors, glass shelves, and crisper drawers. Door contains one or more covered compartments and adjustable bins. Freezer has wire shelf and door bins Use: Whirlpool ET1MTEXMQ (includes ice maker) and Maytag MTB1953HEW (no ice maker).

Rental Data. Rental index from hedonic regressions. Use: Monthly rental data from OPM.

Renter Insurance. One-year renters insurance (HO-4) coverage for $25,000 (low), $30,000 (middle), and $35,000 (upper) of contents. In COLA area, policy must cover hurricane, earthquake, and other catastrophic damage. Note amount of liability coverage in comments; price minimum liability coverage if it varies. Assume concrete structure. Use: Major carrier.

Rice. White rice, not instant type. Use: Uncle Ben's Converted Rice Original 5-lb bag long grain enriched; Goya 3-lb bag medium grain.

Salt. Twenty-six-ounce box of iodized salt. Sterling is an equivalent brand. Use: Morton.

Shampoo. Fifteen-ounce bottle for normal hair. Use: VO5.

Sheets. Sheets, 250 and 300 thread count cotton or cotton polyester blend. Queen-size fitted or flat sheet, not a set. Use: Martha Stewart Everyday 4 Star, 250 thread count (K-Mart), Springmaid, 300 thread count (Wal-Mart), and Wamsutta Egyptian Sateen, 300 thread count (Bed Bath and Beyond).

Shop Rate. Hourly shop rate for a mechanic at Ford, Honda, Nissan, and Toyota dealerships. (Use auto dealer worksheet.) Use: Dealer shop rate.

Soy Milk. One half gallon vanilla soy milk. Use: White Wave Silk Soy Milk.

Sirloin Steak, Boneless. Price per pound, fresh (not frozen or previously frozen) boneless beef top sirloin steak. Price USDA Select or un-graded if available. If not available, note USDA grade in comments. Use average size package; i.e., not family-pack, value-pack, super-saver pack, or equivalent. If multiple brands available (e.g., store brand and “Angus”), match the lowest priced item and note in comments. Use: Available brand.

Sliced Bacon. Sixteen-ounce package USDA grade, regular slice. Use: Oscar Mayer.

Snack Cake. One 10-count box of cream-filled type cake deserts. Use: Hostess Twinkies.

Soft Drink. Twelve-pack of Coca-Cola 12-ounce cans. Use: Coca-Cola 12-pack (cans).

Spaghetti, Dry (National Brand). Sixteen-ounce box or bag of pasta spaghetti. Use: Muellers.

Stamp. Cost of mailing a 1-ounce, first-class letter. Use: USPS.

Stand Mixer. Stand mixer with tilt-up head, 10 speeds, and stainless steel bowl. Includes flat beater, dough hook, wire whip. Use: JC Penney/Sears/Macys/Bed Bath and Beyond: KitchenAid 325 watt (KSM150PSWW); Wal-Mart: KitchenAid 250 watt (K45SSWH).

Sugar. Five-pound bag of granulated cane or beet name brand sugar. Do not price superfine, store brand, or generic. Use: National brand.

Tax Preparation. Flat rate for preparing individual tax Federal 1040 (long form), Schedule A, plus State or local equivalents. (Note: Some areas only have local income taxes.) Note number of forms in comments. Assume typical itemized deductions. If only hourly rate available, obtain estimate of the time necessary to prepare forms, prorate, and report as a substitute. Use: H&R Block type.

Taxi Fare. Cab fare, one way, from major airport to destination 5 miles away. Price fare for one passenger with two suitcases. In reference area, price rides from BWI for Maryland, Reagan National for the District of Columbia, and Dulles for Virginia. Use: Taxi fare.

Telephone Service. Monthly cost for unmeasured touchtone service. Exclude options such as call waiting, call forwarding, or fees for equipment rental. Itemize taxes and fees and add to price. Use: Local provider.

Television 13″. 13-inch color TV with remote. Note: Model numbers may vary slightly. Use: K-Mart: RCA E13320.

Television 27″. Flat-screen, 27 inch, stereo, color TV with remote. Note: Model numbers may vary slightly. Use: Sony KV-27FS120 and Panasonic CT27SL14; Wal-Mart: Philips 27PT6441.

Tennis Balls. One can of three pressurized tennis balls designed for recreational play. Do not price premium type balls. Use: Wilson Championship.

Tire Regular (Ford). One tire, size P235/75 R15 service description 105S load rating SL, “original equipment” quality, black sidewall for a 2001 Ford Explorer XLT. Do not include mounting, balancing, or road hazard warranty. Use: Goodyear Wrangler RT/S (Goodyear, Sears), Michelin XCX/APT (Sears).

Tire Regular (Honda). One tire, size P185/70 R14, “original equipment” quality for a 2001 Honda Civic LX sedan. Do not include mounting, balancing, or road hazard warranty. Use: Goodyear Integrity (Goodyear), Bridgestone Weatherforce (Goodyear, Sears).

Toilet Tissue. Twelve-count single-roll type package of toilet tissue. Use: Angel Soft.

Tomatoes. Price per pound of medium-size tomatoes. If only available in cellophane pack, note price and weight of average size package. Do not price organic, hydro, plum, or extra fancy tomatoes. Use: Available brand.

Top Round Steak, Boneless. Price per pound, fresh (not frozen or previously frozen) boneless beef top round steak. Price USDA Select or un-graded, if available. If not available, note USDA grade in comments. Use average size package; i.e., not family-pack, value-pack, super-saver pack, or equivalent. If multiple brands available (e.g., store brand and “Angus”), match the lowest priced item and note in comments. Use: Available brand.

Toyota License, Registration, Taxes, & Inspection. License, registration, periodic taxes (e.g., road or personal property tax, but NOT one-time taxes such as sales tax), and inspection (e.g., safety and emissions) on the Toyota specified for survey. Use: Specified Toyota.

Toyota. Purchase price of a 2005 Toyota Corolla LE 4-door sedan, model number 1822, with 4-speed automatic transmission. Please note the price of any special option packages. (Use auto dealer worksheet.) Use: 2005 Toyota Corolla LE (for U.S. Virgin Islands and DC area only).

Veterinary Services. Routine annual exam for a small dog (approximately 25 to 30 pounds). Do not price booster shots, medication, or other extras such as nail clipping, ear cleaning, etc. Use: Veterinary services.

Video Rental. Minimum rental rate to rent Finding Nemo on DVD, rented on a Saturday night. Use: Finding Nemo DVD.

Wash, Single Load. One load, regular size wash using a front loading washing machine. Approximate capacity 2.8 cubic feet or 18 pounds. Exclude cost of drying. Use: Coin laundry.

Washing Machine (Front Load). Front load washer, white, 3.34 cubic feet, 27 inch width, 14 cycles, 4 wash temperatures, with LED touchpad controls. Use: Maytag MAH55FLBWW, Maytag Neptune MAH6500AWW.

Washing Machine (Top Load). Top load washer, 3.2 cubic feet. Use: Kenmore Elite 24952, General Electric WDSR2080DWW.

Water Bill. Average monthly consumption in gallons and dollars (e.g., cost for first _ gallons; cost for over _ gallons), sewage and related charges, and customer service charge. Use: Water bill.

Will Preparation. Hourly rate for a lawyer (not a paralegal) to prepare a simple will. If only flat rate available, record flat rate amount and divide by average number of hours it would take to prepare will. Note in comments. Use: Legal service.

Wine At Home. Chardonnay wine, 750 milliliter, any vintage. Use: Turning Leaf.

Wine Away. Casual, fine dining, extra fine dining, and Outback type restaurants. One glass of the least expensive house white wine. Check sales tax and include in price. Use: House wine.

Woman's Athletic Shoe. Woman's walking shoe, soft leather upper. Full-length Phylon midsole with low-pressure Air-Sole units in heel and forefoot. Composition rubber outsole. Use: Reebok Classic.

Woman's Blouse. Button front blouse with minimum or no trim. Washable. May or may not have shoulder pads. Price regular size. Do not price in Woman's or Plus size. Note brand in comments. Use: Laura Scott (Sears), Liz Baker (JC Penney), Charter Club (Macys).

Woman's Blue Jeans. Blue jeans. Machine washable, five pockets with zipper fly, loose fit, straight leg or tapered. Price regular size. Do not price in Woman's or Plus size sections. Do not price elastic waist. Use: Calvin Klein (Macys), Lee original relaxed fit (JC Penney/Sears).

Woman's Casual Khakis. Woman's casual khakis, any color, flat front or pleated pants, machine washable, all cotton. Price regular size. Do not price in Woman's or Plus size sections. Use: Style & Company (Macys), Lands End (JC Penney/Sears).

Woman's Cut and Style. Wash, cut, and styled blow dry for medium length hair. Exclude curling iron if extra. Price hair salons in major department stores and malls where available. Use: Medium length hair.

Woman's Dress. Price regular size. Do not price in Woman's or Plus size. Use: Tommy Hilfiger Seersucker, striped, v-neck front and back, button details, cotton. Macys: Nine West Triple-Tiered Dress, black, velvet bodice trimmed in silk charmeuse with a bow at empire waist, spaghetti straps, side zip, silk/rayon, silk lining. JC Penney/Sears: Store brand, patterned, rayon, misses print dress, simple lines, no lace or special stitching.

Woman's Dress (Catalog). Price regular size. Do not price in Woman's or Plus size. Include sales tax and shipping and handling. Use: JC Penney: Print Button-Front Dress, Misses, catalog number A208-3311, vintage print dress, floral design, scoop neck, button front, cap sleeves, princess seams and back darts. Nordstrom: Donna Ricco Print-Overlay Surplice, sleeveless print dress, faux wrap with side drape, secure closure, sheer silk chiffon layered over silk charmeuse, and a bias-cut skirt. Spiegel: Houndstooth-print dress, catalog number 627 K7053, jewel neckline, waist-cinching attached tie belt, 3/4-length slightly-belled sleeves, back zipper, cotton twill with spandex stretch. Cold Water Creek: Double-V print dress, catalog number H14725, cotton sateen with spandex, back zip, polyester-lined.

Woman's Jacket (Catalog). Price regular size. Do not price in Woman's or Plus size. Include sales tax and shipping and handling. Use: JC Penney: Floral Embroidered Jacket, catalog number A816-5016. Nordstrom: Microfiber Anorak, water-repellent jacket with hideaway hood that zips into collar, zip pocket at left chest, adjustable drawstring waist, unlined, polyester/nylon.

Woman's Pump Shoes. Plain pump (not open toed or open back style) with tapered approximately one and a half to two-inch heel. Heel color matches shoe color (e.g., not stacked/wooden type). Shoe has leather uppers. Rest is man-made materials. No extra ornamentation or extra thick heels. Do not price leather sole shoe. Use: Naturalizer; Laura Scott (JC Penney/Sears); Liz Claiborne (Macys).

Woman's Suit. Woman's two-piece polyester suit with plain jacket and plain pants or skirt. Price regular size. Do not price in Woman's or Plus size. Use: Le Suit.

Woman's Sweater. No buttons or collar, 100 percent cotton or cotton blend. Price regular size. Do not price in Woman's or Plus size. Use: Tommy Hilfiger Cricket, long sleeve, v-neck, stripe ribbed trim; Sag Harbor (JC Penney/Sears), short sleeve; Style & Company (Macys), short sleeve.

Woman's Sweater (Catalog). Striped Sweater, 3/4-length sleeves. Cotton/rayon. Dry clean. Include sales tax and shipping and handling. Use: Striped Sweater, Spiegel catalog number 627 T8062.

Woman's Wallet. Clutch/checkbook style wallet, split-grain cowhide leather. Do not price eel skin, snake skin, or other varieties. Use: Liz Claiborne.

Appendix 4.—COLA Rental Survey Data Collection Elements

Survey Year: Year of survey.

Comparable ID Code: A unique five-character code is applied to each rental observation (i.e., comparable). Position One is the letter corresponding to the COLA survey area in which the comparable is located (e.g., A, B, C, D). Position Two is the letter corresponding to the location in the COLA survey area in which the comparable is located. Position Three is the letter corresponding to the class of housing (i.e., A, B, C, D, E, F) as shown in the table below. Positions Four and Five contain the sequential numbers 01-99 that identify the order in which the comparable was collected relative to the other comparable in the same area, location, and class.

Housing Classes
Class | Description
A | Four bedroom, single family unit not to exceed 3200 square feet.
B | Three bedroom, single family unit not to exceed 2600 square feet.
C | Two bedroom, single family unit not to exceed 2200 square feet.
D | Three bedroom apartment unit not to exceed 2000 square feet.
E | Two bedroom apartment unit not to exceed 1800 square feet.
F | One bedroom apartment unit not to exceed 1400 square feet.

Community Name: The name of the community in which the comparable is located.

Comparable's Address: The complete address of the physical location of the comparable, including city, State, and zip code.

Data Source: The name and title (such as owner, agent, landlord, or tenant) of the person providing rental survey data and rental rates. Note: The respondent might not provide and cannot be compelled to provide this or any other survey information.

Address of Data Source: The Data Source's mailing address, phone number(s), and e-mail address, if available.

Year Constructed: The year the structure was built or last remodeled, provided the remodeling affected about half of the structure or more.

Finished Living Space: Total square feet of finished living area, including finished basement space.

Basement: Whether there is a basement (finished or unfinished). Y = Yes or N = No.

Bedrooms: The total number of rooms that currently are or could be used as bedrooms.

Bathrooms: Total number of baths, where ½ bath contains toilet and sink; ¾ bath contains toilet, sink, and shower; and full bath contains toilet, sink, shower, and tub.

Balcony: An elevated structure, sometimes called a “terrace,” that is either covered or uncovered and usually made of wood or cement. It is distinguished from a deck because it does not have a ground-level exit. A = Covered, B = Uncovered, C = None.

Deck: A wooden structure either covered or uncovered that is elevated or at ground level. An elevated deck is distinguished from a balcony because a deck has a ground-level exit (e.g., stairs). A = Covered, B = Uncovered, C = None.

Patio: A cement, brick, or stone structure either covered or uncovered built at ground level. A ground-level wooden structure is a deck, not a patio. A = Covered, B = Uncovered, C = None.

External Condition: The external condition of the rental unit. Above average condition means the unit is new or in like new condition (e.g., recently remodeled, refurbished, or restored). Average condition means the unit shows signs of age but is in good repair (e.g., the paint is not peeling; no broken windows, sagging fences, or missing gutters; the yard is maintained; there are no disabled vehicles, appliances, or trash around the property). Below average condition means the unit is habitable but needs repair and the property needs maintenance and/or trash removal. A = Above Average, B = Average, C = Below Average.

Neighborhood Condition: The condition of the neighborhood in which the rental unit is located. A desirable neighborhood generally has above average and average homes. Commercial services are separate (e.g., clustered in strip malls or business parks). There are parks and/or open public spaces. Roads and parks are well-maintained and clean. An average neighborhood generally has homes in average condition with a balance of homes in above average and below average condition. Commercial services are separate. Roads and parks are in good condition but may need cleaning or maintenance. An undesirable neighborhood generally has homes in poor condition. Commercial units may be intermingled with residential units. Roads are often poorly maintained and have litter. There are few parks, and/or parks are poorly maintained. A = Desirable, B = Average, C = Undesirable.

Central Air Conditioning: A ducted system designed to cool all or essentially all of the living area of a house or apartment. Y = Yes or N = No.

Multi-Room Air Conditioning: A non-window unit designed to cool more than one room but not usually the entire house or apartment. Y = Yes and number of units or N = No.

Window Air Conditioning: An air conditioning unit, designed to cool one room, usually placed in a window. Y = Yes and number of units or N = No.

Garage: A covered area attached to or near the house that can be secured for parking one or more cars. If the landlord charges an extra fee for garage parking, garage is coded as “none,” and the monthly parking fee is reported separately. A = Single, B = Double, C = Triple or More, D = None.

Heated Garage: A garage of any type that typically is heated during the winter. Y = Yes or N = No.

Carport: A covered area attached to or near the house that cannot be secured for parking one or more cars. If the landlord charges an extra fee for carport parking, carport is coded as “no,” and the monthly parking fee is reported separately. Y = Yes or N = No.

Reserved Parking Space: A specific parking space assigned to a rental unit. The space may be located outside or in a common carport or garage. If the landlord charges an extra fee for reserved parking, reserved parking is coded as “no,” and the monthly parking fee is reported separately. Y = Yes or N = No.

Security: Security measures relating to the rental unit. A gated community usually has one entry into the housing area, and prominent walls (brick, block, fencing, wire, or other type barriers) that delineate the borders of the community. Access control restricts pedestrian and/or vehicular access via key, keypad, barcode, or other entry device to the community or apartment building. Guards are security personnel who monitor entrance/exit of vehicular and pedestrian traffic in/out of the community or apartment building. Alarm systems are security systems that may or may not be monitored by an outside company. Y = Yes or N = No for each type of security feature.

Type of unit: Types of units are coded A through H. Unit types A, B, C, and D are single-family dwellings; and unit types E, F, and G are apartments. A single-family dwelling has at least two doorway entrances that provide direct access between the living area and outdoors, usually at or near ground level. A sliding glass door is considered a doorway entrance if it allows direct access to the outdoors and to ground level. An apartment is a unit other than a single-family dwelling that has at least one doorway entrance that provides access between the living area and outdoors. Such access may be through a lobby, hallway, shared stairwell, or other common area but cannot be through the living area of other units. Sliding glass doors on balconies are not doorway entrances. Ground-level or essentially ground-level units in an apartment structure are not single-family dwellings. Apartments have their own bathroom and kitchen facilities. Units in an operating motel are not apartment units, even if they do contain their own bathroom and kitchen facilities.

Rental Unit Types
Unit type | Description
A | Detached single-family house.
B | Duplex: One of two single-family units in a freestanding building.
C | Triplex or Quadplex: One of three or four single-family units in a freestanding building.
D | Town or Row House: One of five or more single-family units in a freestanding building.
E | In-Home Apartment: An apartment in a private residence.
F | Garden or Walk-Up Apartment: An apartment in a structure of three stories or less.
G | High Rise Apartment: An apartment in a structure of four stories or more.
H | Other types of dwellings.

Lot Size: Size of lot in square feet. (Detached houses only).

End Unit: End unit. (Town and row houses only.) Y = Yes or N = No.

Number of floors: Number of floors in the apartment structure. (Walk-up and high rise apartments only.)

Furnishings Provided: Whether the landlord provides most or all interior furnishings in the comparable. Y = Yes or N = No

Appliances Provided: Whether the landlord provides a refrigerator, range, oven, microwave, dish washer, clothes washer, clothes dryer, and/or free-standing freezer. Y = Yes or N = No for each type of appliance.

Services Paid by Landlord: Whether the landlord pays for water, sewer/septic, garbage, lawn care, cable television, satellite dish (digital or analog), electricity, heating energy, firewood, and/or snow removal. Y = Yes or N = No for each item.

Sewer: A = Public, B = Septic or Leach Field, C = None.

Water Source: A = Public, B = Well, C = Cistern, D = None.

Pets Allowed: Whether the landlord allows dogs and/or cats. Y = Yes or N = No. If the landlord charges an extra monthly fee, pets allowed is coded as “no,” and the monthly pet fees are reported separately. Deposits are not reported.

Exceptional View: Whether the unit has a view of a park, ocean, mountain, valley, golf course, etc. that is unusually beautiful for the area and may increase the rental value of the property. Note: Properties with direct access to such an amenity (e.g., are on a beach or golf course) are not to be surveyed. Y = Yes or N = No.

Miscellaneous Amenities: Whether any of the following amenities are available: fireplace, paved roads, streetlights, and sidewalks. Y = Yes or N = No for each.

Recreational Facilities: Whether there is a pool, tennis court, clubhouse, exercise room, and/or other facilities available to all of the residents of the community, complex, or building for no additional membership fees. Y = Yes or N = No for each.

Vacant: Whether the unit is vacant at time of survey. If unit is vacant, how long the unit has been vacant and on the rental market is also reported. Y = Yes or N = No.

Monthly Rent: The monthly rent or lease amount to the nearest U.S. dollar. Deposits or additional fees reported separately (e.g., parking, homeowner association, and pet fees) are not included.

Additional Fees: Additional periodic or scheduled fees or charges that the tenant pays; e.g., condo or Home Owner Association fees. Y = Yes or N = No. If yes, the fee is reported. Annual fees are prorated and reported as monthly. Deposits, first or last months' rent, utilities, tenant's insurance, and discretionary fees (e.g., cable TV and community pool memberships) are not reported.

Source of Rental Listing: How the rental unit was identified. A = Local Newspaper, B = Internet, C = Agent/Broker, D = Drive By/Sign Posted, E = Other.

Date of Rental Listing: Date the rental data for the unit were collected, or if for a different time period, the date associated with the data and rent.

Latitude and Longitude of the Unit: Housing unit latitude and longitude recorded in degrees and decimal degrees.

Comment(s): Any comment or note of significance that helps clarify the above data elements as they apply to the comparable.

Appendix 5—Utility Usage and Calculations

2005 Energy Requirements and Prices

Table A5-1.—Caribbean Areas
All electric home: Month | All electric home: KHW | All electric home: Puerto Rico | All electric home: USVI
Jan | 2,318 | $322.14 | $511.92
Feb | 2,225 | 302.47 | 491.58
Mar | 2,649 | 387.42 | 584.31
Apr | 2,746 | 353.22 | 483.36
May | 2,980 | 383.18 | 568.24
Jun | 3,086 | 396.34 | 588.28
Jul | 3,197 | 410.07 | 609.26
Aug | 3,226 | 444.98 | 602.90
Sep | 2,938 | 376.86 | 583.86
Oct | 2,921 | 374.68 | 605.58
Nov | 2,546 | 356.92 | 551.58
Dec | 2,348 | 338.14 | 508.86
Total Cost | 33,180 | 4,446.42 | 6,689.72
Avg Monthly Cost |  | 370.54 | 557.48

Table A5-2.—Washington, DC, Area
All electric home: Month | All electric home: KWH | All electric home: Cost | Home with gas heat: Therms | Home with gas heat: Cost | Home with gas heat: KHW ¹ | Home with gas heat: Cost | Home with gas heat: Total cost | Home with oil heat: Gallons | Home with oil heat: Cost | Home with oil heat: KHW ¹ | Home with oil heat: Cost | Home with oil heat: Total cost
Jan | 3,326 | $263.52 | 126 | $177.30 | 362 | $31.84 | $209.15 | 72 | $159.18 | 1,007 | $85.54 | $244.72
Feb | 2,688 | 262.40 | 101 | 143.44 | 320 | 31.48 | 174.91 | 56 | 123.81 | 891 | 89.55 | 213.36
Mar | 1,812 | 177.83 | 68 | 93.71 | 322 | 31.69 | 125.39 | 27 | 59.69 | 938 | 94.16 | 153.85
Apr | 966 | 74.36 | 34 | 51.66 | 316 | 26.23 | 77.88 | 2 | 4.42 | 909 | 70.52 | 74.94
May | 1,170 | 88.15 | 34 | 54.88 | 544 | 43.15 | 98.04 | 0 | 0.00 | 1,166 | 87.87 | 87.87
Jun | 1,377 | 132.98 | 32 | 55.10 | 784 | 72.59 | 127.69 | 0 | 0.00 | 1,369 | 132.15 | 132.15
Jul | 1,648 | 165.46 | 34 | 56.13 | 1,022 | 99.78 | 155.91 | 0 | 0.00 | 1,636 | 162.85 | 162.85
Aug | 1,566 | 157.85 | 33 | 55.12 | 957 | 93.56 | 148.68 | 0 | 0.00 | 1,555 | 155.40 | 155.40
Sep | 1,246 | 124.07 | 32 | 50.50 | 653 | 62.26 | 112.76 | 0 | 0.00 | 1,241 | 122.53 | 122.53
Oct | 975 | 93.81 | 35 | 53.06 | 315 | 30.02 | 83.09 | 1 | 2.21 | 941 | 89.78 | 91.99
Nov | 1,797 | 145.72 | 67 | 102.74 | 311 | 28.07 | 130.81 | 28 | 61.90 | 911 | 78.08 | 139.98
Dec | 2,797 | 231.32 | 106 | 147.80 | 344 | 32.63 | 180.43 | 58 | 128.23 | 952 | 85.23 | 213.45
Total Cost |  | 1,917.47 |  | 1,041.44 |  | 583.30 | 1,624.74 |  | 539.44 |  | 1,253.66 | 1,793.09
Avg Monthly Cost |  | 159.79 |  | 86.79 |  | 48.61 | 135.39 |  |  |  |  | 149.42
Relative Usage |  | 33.20% |  |  |  |  | 60.74% |  |  |  |  | 6.06%
Weighted Avg Cost |  | $53.05 |  |  |  |  | $82.24 |  |  |  |  | $9.06
Total Energy Utility Cost (sum of the weighted average cost of Electric + Gas + Oil Heat) | 144.34
¹ KWH required for lighting, appliances, and furnace. Model used gas for stove and oven with gas heat.

Appendix 6—Hedonic Rental Data Equations and Results

SAS Regression Program Using Proc Freq

Data temp;

set opm.all_areas_with_census;

survey_area = ′XX′;

location = substr(compnumber,1,1);

if location = ′A′ then survey_area = ′SC′;

if location = ′B′ then survey_area = ′ST′;

if location = ′C′ then survey_area = ′PR′;

if location = ′D′ then survey_area = ′DC′;

age = 2005-yrbuilt;

agesq = age**2;

baths = fullbaths + halfbaths*.5 + threeqtrbaths*.75;

if unittype = ′A′ then typeunit = ′ZDetached (A)′;

if unittype = ′D′ then typeunit = ′Town/Row (D)′;

if unittype in (′B′ ′C′) then typeunit = ′Plex (BC)′;

if unittype in (′E′ ′H′) then typeunit = ′OtherInHome (EH) ′;

if unittype = ′F′ then typeunit = ′Garden (F)′;

if unittype = ′G′ then typeunit = ′High Rise (G)′;

AptOtherInHome = 0;

if unittype in (′E′ ′H′) then AptOtherInHome = 1;

SqftXApt_Other_InHome = 0;

if unittype in (′E′ ′H′) then SqftXApt_Other_InHome = sqfootage;

Plexed = 0;

if unittype in (′B′ ′C′) then Plexed = 1;

SqftXPlexed = 0;

if unittype in (′B′ ′C′) then SqftXPlexed = sqfootage;

HighRise = 0;

if unittype = ′G′ then HighRise = 1;

SqftXHighRise = 0;

if unittype = ′G′ then SqftXHighRise = sqfootage;

Garden = 0;

if unittype = ′F′ then Garden = 1;

SqftXGarden= 0;

if unittype = ′F′ then SqftXGarden = sqfootage;

Townrow = 0;

if unittype = ′D′ then Townrow = 1;

SqftXTownrow = 0;

if unittype = ′D′ then SqftXTownrow = sqfootage;

SqftXDetached = 0;

if unittype in (′A′) then SqftXDetached = sqfootage;

hasmicrowave = 0;

exceptional_view = 0;

if excview = ′Y′ then exceptional_view = 1;

if microwave = ′Y′ then hasmicrowave = 1;

external_condition = 0;

if extrcond = ′A′ then external_condition = 1;

pctallbasq = pctallba_**2;

ST_CROIX = 0;

if survey_area = ′SC′ then ST_CROIX = 1;

ST_THOMAS = 0;

if survey_area = ′ST′ then ST_THOMAS = 1;

Puerto_Rico = 0;

if survey_area = ′PR′ then Puerto_Rico = 1;

Wash_DC = 0;

lrent = log(rent);

run;

PROC REG DATA = temp;

MODEL lrent = SqftXApt_Other_InHome SqftXPlexed SqftXGarden

SqftXHighRise SqftXTownrow SqftXDetached AptOtherInHome Plexed HighRise Garden

Townrow age agesq baths bedrooms hasmicrowave external_condition exceptional_view pctallba_pctallbasq pctschoolage

ST_CROIX ST_THOMAS Puerto_Rico;

Title1 ′2005 CARIBBEAN RENTAL DATA′;

Title2 ′RENTAL ANALYSIS Federal Register MODEL′;

run;

SAS Regression Output From Proc Freq

2005 Caribbean Rental Data.—Rental Analysis Federal Register Model
[The REG Procedure Model: MODEL1 Dependent Variable: lrent]
Number of Observations Read | 1815
Number of Observations Used | 1815

Analysis of Variance: Source | Analysis of Variance: DF | Analysis of Variance: Sum of squares | Analysis of Variance: Mean square | Analysis of Variance: F Value | Analysis of Variance: Pr > F
Model | 24 | 346.73868 | 14.44745 | 321.07 | <.0001
Error | 1790 | 80.54676 | 0.04500
Corrected Total | 1814 | 427.28544

Root MSE | 0.21213 | R-Square | 0.8115
Dependent Mean | 7.10830 | Adj R-Sq | 0.8090
Coeff Var | 2.98423

Parameter Estimates
Variable | DF | Parameter estimate | Standard error | t Value | Pr > [t]
Intercept | 1 | 6.62494 | 0.05446 | 121.66 | <.0001
SqftXApt_Other_InHome | 1 | 0.00095295 | 0.00009853 | 9.67 | <.0001
SqftXPlexed | 1 | 0.00026758 | 0.00005370 | 4.98 | <.0001
SqftXGarden | 1 | 0.00026216 | 0.00005074 | 5.17 | <.0001
SqftXHighRise | 1 | 0.00039949 | 0.00004163 | 9.60 | <.0001
SqftXTownrow | 1 | −9.03293E-7 | 0.00003901 | −0.02 | 0.9815
SqftXDetached | 1 | 0.00017163 | 0.00002080 | 8.25 | <.0001
AptOtherInHome | 1 | −0.82482 | 0.07898 | −10.44 | <.0001
Plexed | 1 | −0.25498 | 0.06672 | −3.82 | 0.0001
HighRise | 1 | −0.23650 | 0.04997 | −4.73 | <.0001
Garden | 1 | −0.13519 | 0.05508 | −2.45 | 0.0142
Townrow | 1 | 0.21238 | 0.06091 | 3.49 | 0.0005
age | 1 | −0.00469 | 0.00077154 | −6.08 | <.0001
agesq | 1 | 0.00006550 | 0.00000819 | 8.00 | <.0001
baths | 1 | 0.13097 | 0.01076 | 12.18 | <0001
BEDROOMS | 1 | 0.09847 | 0.00919 | 10.71 | <.0001
hasmicrowave | 1 | 0.10119 | 0.01227 | 8.25 | <.0001
external_condition | 1 | 0.15923 | 0.02201 | 7.23 | <.0001
exceptional_view | 1 | 0.26800 | 0.02529 | 10.60 | <.0001
PCTAllBA_ | 1 | 0.19366 | 0.11555 | 1.68 | 0.0939
pctallbasq | 1 | 0.20591 | 0.12432 | 1.66 | 0.0978
PctSchoolAge | 1 | −0.73645 | 0.11733 | −6.28 | <.0001
ST_CROIX | 1 | −0.07718 | 0.02348 | −3.29 | 0.0010
ST_THOMAS | 1 | 0.06129 | 0.02291 | 2.68 | 0.0075
Puerto_Rico | 1 | −0.39106 | 0.01564 | −25.01 | <.0001

Appendix 7.—Final Living-Cost Results for the Caribbean COLA Areas
Major expenditure group (MEG) | Primary expenditure group (PEG) | MEG weight (percent) | PEG weight (percent) | PEG index | MEG index
Puerto Rico
1. Food |  | 13.35 |  |  | 103.54
| Cereals and bakery products | 0.87 | 6.52 | 107.96 |
| Meats, poultry, fish, and eggs | 1.62 | 12.11 | 103.44 |
| Dairy products | 0.64 | 4.77 | 129.91 |
| Fruits and vegetables | 0.80 | 6.00 | 107.12 |
| Processed foods | 1.55 | 11.58 | 114.54 |
| Other food at home | 0.34 | 2.56 | 103.01 |
| Nonalcoholic beverages | 0.46 | 3.43 | 115.71 |
| Food away from home | 5.91 | 44.23 | 93.76 |
| Alcoholic beverages | 1.17 | 8.79 | 113.82 |
| PEG Total |  | 100.00 |  |
2. Shelter and Utilities |  | 35.59 |  |  | 86.44
| Shelter | 31.86 | 89.50 | 69.96 |
| Energy utilities | 3.06 | 8.59 | 256.71 |
| Water and other public services | 0.68 | 1.91 | 92.50 |
| PEG Total |  | 100.00 |  |
3. Household Furnishings and Supplies |  | 5.44 |  |  | 97.46
| Household operations | 1.14 | 21.00 | 60.24 |
| Housekeeping supplies | 1.18 | 21.71 | 100.92 |
| Textiles and area rugs | 0.34 | 6.30 | 106.78 |
| Furniture | 0.95 | 17.51 | 109.31 |
| Major appliances | 0.37 | 6.76 | 106.81 |
| Small appliances, misc. housewares | 0.27 | 4.96 | 105.62 |
| Misc. household equipment | 1.18 | 21.76 | 112.91 |
| PEG Total |  | 100.00 |  |
4. Apparel and Services |  | 4.11 |  |  | 106.06
| Men and boys | 0.94 | 22.85 | 104.12 |
| Women and girls | 1.73 | 42.11 | 118.19 |
| Children under 2 | 0.17 | 4.11 | 79.44 |
| Footwear | 0.73 | 17.81 | 88.89 |
| Other apparel products and svcs | 0.54 | 13.12 | 102.20 |
| PEG Total |  | 100.00 |  |
5. Transportation |  | 15.78 |  |  | 111.28
| Motor vehicle costs | 8.54 | 54.10 | 108.89 |
| Gasoline and motor oil | 2.82 | 17.85 | 89.59 |
| Maintenance and repairs | 1.49 | 9.42 | 90.07 |
| Vehicle insurance | 1.83 | 11.62 | 154.29 |
| Public transportation | 1.11 | 7.02 | 142.20 |
| PEG Total |  | 100.00 |  |
6. Medical |  | 4.65 |  |  | 67.07
| Health insurance | 2.50 | 53.86 | 58.79 |
| Medical services | 1.29 | 27.75 | 57.64 |
| Drugs and medical supplies | 0.86 | 18.39 | 105.53 |
| PEG Total |  | 100.00 |  |
7. Recreation |  | 4.61 |  |  | 98.61
| Fees and admissions | 1.04 | 22.50 | 91.98 |
| Television, radios, sound equipment | 0.69 | 15.01 | 106.48 |
| Pets, toys, and playground equip | 0.74 | 16.13 | 93.42 |
| Other entertainment supplies, etc | 0.64 | 13.80 | 108.47 |
| Personal care products | 0.66 | 14.30 | 104.46 |
| Personal care services | 0.55 | 11.84 | 80.83 |
| Reading | 0.30 | 6.41 | 115.02 |
| PEG Total |  | 100.00 |  |
8. Education and Communication |  | 4.30 |  |  | 110.77
| Education | 0.22 | 5.23 | 257.37 |
| Communications | 3.72 | 86.50 | 102.06 |
| Computers and computer svcs | 0.36 | 8.28 | 109.22 |
| PEG Total |  | 100.00 |  |
9. Miscellaneous |  | 12.16 |  |  | 99.33
| Tobacco products, etc | 0.41 | 3.37 | 91.91 |
| Miscellaneous | 1.53 | 12.58 | 96.85 |
| Personal insurance and pensions | 10.22 | 84.05 | 100.00 |
| PEG Total |  | 100.00 |  |
Overall Price Index | MEG Total | 100.00 |  |  | 96.32
Plus Adjustment Factor |  |  |  |  | 7.00
Index Plus Adjustment Factor |  |  |  |  | 103.32
St. Croix
1. Food |  | 13.35 |  |  | 114.20
| Cereals and bakery products | 0.87 | 6.52 | 123.59 |
| Meats, poultry, fish, and eggs | 1.62 | 12.11 | 123.89 |
| Dairy products | 0.64 | 4.77 | 148.44 |
| Fruits and vegetables | 0.80 | 6.00 | 106.19 |
| Processed foods | 1.55 | 11.58 | 134.21 |
| Other food at home | 0.34 | 2.56 | 112.17 |
| Nonalcoholic beverages | 0.46 | 3.43 | 118.58 |
| Food away from home | 5.91 | 44.23 | 107.57 |
| Alcoholic beverages | 1.17 | 8.79 | 86.66 |
| PEG Total |  | 100.00 |  |
2. Shelter and Utilities |  | 35.59 |  |  | 126.46
| Shelter | 31.86 | 89.50 | 98.78 |
| Energy utilities | 3.06 | 8.59 | 386.23 |
| Water and other public services | 0.68 | 1.91 | 254.81 |
| PEG Total |  | 100.00 |  |
3. Household Furnishings and Supplies |  | 5.44 |  |  | 114.56
| Household operations | 1.14 | 21.00 | 55.84 |
| Housekeeping supplies | 1.18 | 21.71 | 122.60 |
| Textiles and area rugs | 0.34 | 6.30 | 130.69 |
| Furniture | 0.95 | 17.51 | 142.39 |
| Major appliances | 0.37 | 6.76 | 118.37 |
| Small appliances, misc. housewares | 0.27 | 4.96 | 110.74 |
| Misc. household equipment | 1.18 | 21.76 | 135.83 |
| PEG Total |  | 100.00 |  |
4. Apparel and Services |  | 4.11 |  |  | 101.55
| Men and boys | 0.94 | 22.85 | 107.81 |
| Women and girls | 1.73 | 42.11 | 108.25 |
| Children under 2 | 0.17 | 4.11 | 121.87 |
| Footwear | 0.73 | 17.81 | 79.41 |
| Other apparel products and services | 0.54 | 13.12 | 92.83 |
| PEG Total |  | 100.00 |  |
5. Transportation |  | 15.78 |  |  | 113.50
| Motor vehicle costs | 8.54 | 54.10 | 111.23 |
| Gasoline and motor oil | 2.82 | 17.85 | 92.74 |
| Maintenance and repairs | 1.49 | 9.42 | 83.02 |
| Vehicle insurance | 1.83 | 11.62 | 125.60 |
| Public transportation | 1.11 | 7.02 | 204.73 |
| PEG Total |  | 100.00 |  |
6. Medical |  | 4.65 |  |  | 100.68
| Health insurance | 2.50 | 53.86 | 106.59 |
| Medical services | 1.29 | 27.75 | 75.57 |
| Drugs and medical supplies | 0.86 | 18.39 | 121.23 |
| PEG Total |  | 100.00 |  |
7. Recreation |  | 4.61 |  |  | 106.28
| Fees and admissions | 1.04 | 22.50 | 95.63 |
| Television, radios, sound equipment | 0.69 | 15.01 | 112.34 |
| Pets, toys, and playground equip | 0.74 | 16.13 | 107.40 |
| Other entertainment supplies, etc | 0.64 | 13.80 | 109.60 |
| Personal care products | 0.66 | 14.30 | 116.54 |
| Personal care services | 0.55 | 11.84 | 91.26 |
| Reading | 0.30 | 6.41 | 124.39 |
| PEG Total |  | 100.00 |  |
8. Education and Communication |  | 4.30 |  |  | 103.04
| Education | 0.22 | 5.23 | 222.55 |
| Communications | 3.72 | 86.50 | 95.29 |
| Computers and computer services | 0.36 | 8.28 | 108.60 |
| PEG Total |  | 100.00 |  |
9. Miscellaneous |  | 12.16 |  |  | 103.45
| Tobacco products, etc | 0.41 | 3.37 | 50.84 |
| Miscellaneous | 1.53 | 12.58 | 140.60 |
| Personal insurance and pensions | 10.22 | 84.05 | 100.00 |
| PEG Total |  | 100.00 |  |
St. Thomas/St. John
1. Food |  | 13.35 |  |  | 118.16
| Cereals and bakery products | 0.87 | 6.52 | 124.14 |
| Meats, poultry, fish, and eggs | 1.62 | 12.11 | 120.40 |
| Dairy products | 0.64 | 4.77 | 169.39 |
| Fruits and vegetables | 0.80 | 6.00 | 111.56 |
| Processed foods | 1.55 | 11.58 | 145.53 |
| Other food at home | 0.34 | 2.56 | 124.58 |
| Nonalcoholic beverages | 0.46 | 3.43 | 116.22 |
| Food away from home | 5.91 | 44.23 | 109.43 |
| Alcoholic beverages | 1.17 | 8.79 | 94.19 |
| PEG Total |  | 100.00 |  |
2. Shelter and Utilities |  | 35.59 |  |  | 138.16
| Shelter | 31.86 | 89.50 | 111.85 |
| Energy utilities | 3.06 | 8.59 | 386.23 |
| Water and other public services | 0.68 | 1.91 | 254.81 |
| PEG Total |  | 100.00 |  |
3. Household Furnishings and Supplies |  | 5.44 |  |  | 112.17
| Household operations | 1.14 | 21.00 | 55.68 |
| Housekeeping supplies | 1.18 | 21.71 | 122.15 |
| Textiles and area rugs | 0.34 | 6.30 | 128.61 |
| Furniture | 0.95 | 17.51 | 134.05 |
| Major appliances | 0.37 | 6.76 | 116.73 |
| Small appliances, misc. housewares | 0.27 | 4.96 | 110.74 |
| Misc. household equipment | 1.18 | 21.76 | 133.27 |
| PEG Total |  | 100.00 |  |
4. Apparel and Services |  | 4.11 |  |  | 108.04
| Men and boys | 0.94 | 22.85 | 107.81 |
| Women and girls | 1.73 | 42.11 | 108.25 |
| Children under 2 | 0.17 | 4.11 | 138.20 |
| Footwear | 0.73 | 17.81 | 102.75 |
| Other apparel products and services | 0.54 | 13.12 | 105.51 |
| PEG Total |  | 100.00 |  |
5. Transportation |  | 15.78 |  |  | 122.90
| Motor vehicle costs | 8.54 | 54.10 | 119.22 |
| Gasoline and motor oil | 2.82 | 17.85 | 124.59 |
| Maintenance and repairs | 1.49 | 9.42 | 76.56 |
| Vehicle insurance | 1.83 | 11.62 | 129.01 |
| Public transportation | 1.11 | 7.02 | 199.11 |
| PEG Total |  | 100.00 |  |
6. Medical |  | 4.65 |  |  | 117.93
| Health insurance | 2.50 | 53.86 | 111.09 |
| Medical services | 1.29 | 27.75 | 124.53 |
| Drugs and medical supplies | 0.86 | 18.39 | 128.02 |
| PEG Total |  | 100.00 |  |
7. Recreation |  | 4.61 |  |  | 107.17
| Fees and admissions | 1.04 | 22.50 | 75.62 |
| Television, radios, sound equipment | 0.69 | 15.01 | 118.66 |
| Pets, toys, and playground equipment | 0.74 | 16.13 | 111.52 |
| Other entertainment supplies, etc | 0.64 | 13.80 | 109.60 |
| Personal care products | 0.66 | 14.30 | 141.87 |
| Personal care services | 0.55 | 11.84 | 92.33 |
| Reading | 0.30 | 6.41 | 124.85 |
| PEG Total |  | 100.00 |  |
8. Education and Communication |  | 4.30 |  |  | 102.59
| Education | 0.22 | 5.23 | 194.29 |
| Communications | 3.72 | 86.50 | 95.29 |
| Computers and computer services | 0.36 | 8.28 | 121.02 |
| PEG Total |  | 100.00 |  |
9. Miscellaneous |  | 12.16 |  |  | 102.30
| Tobacco products, etc | 0.41 | 3.37 | 57.80 |
| Miscellaneous | 1.53 | 12.58 | 129.60 |
| Personal insurance and pensions | 10.22 | 84.05 | 100.00 |
| PEG Total |  | 100.00 |  |

Appendix 7.—Final Living-Cost Results for the Caribbean COLA Area
Major expenditure group (MEG) | Primary expenditure group (PEG) | St. Croix index (percent) | St. Thomas/ St. John index (percent) | U.S. Virgin Islands Wtd index
U.S. Virgin Islands
Employment Weights |  | 42.26 | 57.74 |
1. Food |  | 114.20 | 118.16 | 116.49
| Cereals and bakery products | 123.59 | 124.14 | 123.91
| Meats, poultry, fish, and eggs | 123.89 | 120.40 | 121.88
| Dairy products | 148.44 | 169.39 | 160.54
| Fruits and vegetables | 106.19 | 111.56 | 109.29
| Processed foods | 134.21 | 145.53 | 140.75
| Other food at home | 112.17 | 124.58 | 119.34
| Nonalcoholic beverages | 118.58 | 116.22 | 117.22
| Food away from home | 107.57 | 109.43 | 108.64
| Alcoholic beverages | 86.66 | 94.19 | 91.01
2. Shelter and Utilities |  | 126.46 | 138.16 | 133.22
| Shelter | 98.78 | 111.85 | 106.33
| Energy utilities | 386.23 | 386.23 | 386.23
| Water and other public services | 254.81 | 254.81 | 254.81
3. Household Furnishings and Supplies |  | 114.56 | 112.17 | 113.18
| Household operations | 55.84 | 55.68 | 55.75
| Housekeeping supplies | 122.60 | 122.15 | 122.34
| Textiles and area rugs | 130.69 | 128.61 | 129.49
| Furniture | 142.39 | 134.05 | 137.57
| Major appliances | 118.37 | 116.73 | 117.42
| Small appliances, misc. housewares | 110.74 | 110.74 | 110.74
| Misc. household equipment | 135.83 | 133.27 | 134.35
4. Apparel and Services |  | 101.55 | 108.04 | 105.30
| Men and boys | 107.81 | 107.81 | 107.81
| Women and girls | 108.25 | 108.25 | 108.25
| Children under 2 | 121.87 | 138.20 | 131.30
| Footwear | 79.41 | 102.75 | 92.88
| Other apparel products and services | 92.83 | 105.51 | 100.15
5. Transportation |  | 113.50 | 122.90 | 118.93
| Motor vehicle costs | 111.23 | 119.22 | 115.84
| Gasoline and motor oil | 92.74 | 124.59 | 111.13
| Maintenance and repairs | 83.02 | 76.56 | 79.29
| Vehicle insurance | 125.60 | 129.01 | 127.57
| Public transportation | 204.73 | 199.11 | 201.49
6. Medical |  | 100.68 | 117.93 | 110.64
| Health insurance | 106.59 | 111.09 | 109.19
| Medical services | 75.57 | 124.53 | 103.84
| Drugs and medical supplies | 121.23 | 128.02 | 125.15
7. Recreation |  | 106.28 | 107.17 | 106.80
| Fees and admissions | 95.63 | 75.62 | 84.08
| Television, radios, sound equipment | 112.34 | 118.66 | 115.99
| Pets, toys, and playground equipment | 107.40 | 111.52 | 109.77
| Other entertainment supplies, etc | 109.60 | 109.60 | 109.60
| Personal care products | 116.54 | 141.87 | 131.17
| Personal care services | 91.26 | 92.33 | 91.88
| Reading | 124.39 | 124.85 | 124.66
8. Education and Communication |  | 103.04 | 102.59 | 102.78
| Education | 222.55 | 194.29 | 206.23
| Communications | 95.29 | 95.29 | 95.29
| Computers and computer services | 108.60 | 121.02 | 115.77
9. Miscellaneous |  | 103.45 | 102.30 | 102.79
| Tobacco products, etc | 50.84 | 57.80 | 54.86
| Miscellaneous | 140.60 | 129.60 | 134.25
| Personal insurance and pensions | 100.00 | 100.00 | 100.00
Overall Price Index |  |  |  | 119.21
Plus Adjustment Factor |  |  |  | 9.00
Preliminary COLA Index |  |  |  | 128.21

[FR Doc. E6-17951 Filed 10-26-06; 8:45 am]

BILLING CODE 6325-39-P